DEPARTMENT OF THE INTERIOR

Fish and Wildlife Service

50 CFR Parts 13, 17, and 23

[Docket No. FWS-R9-IA-2010-0083; 96300-1671-0000-R4]

RIN 1018-AW82

Revision of Regulations Implementing the Convention on International Trade in Endangered Species of Wild Fauna and Flora (CITES); Updates Following the Fifteenth Meeting of the Conference of the Parties to CITES

AGENCY: Fish and Wildlife Service, Interior.

ACTION: Proposed rule.

SUMMARY: We, the Fish and Wildlife Service (FWS or Service), propose to revise the regulations that implement the Convention on International Trade in Endangered Species of Wild Fauna and Flora (CITES or Treaty or Convention) by incorporating certain provisions adopted at the fourteenth and fifteenth meetings of the Conference of the Parties (CoP14 and CoP15) to CITES and clarifying and updating certain other provisions. These changes would bring U.S. regulations in line with revisions adopted at the most recent meetings of the Conference of the Parties, which took place in June 2007 (CoP14) and March 2010 (CoP15). The revised regulations would help us more effectively promote species conservation, help us continue to fulfill our responsibilities under the Treaty, and help those affected by CITES to understand how to conduct lawful international trade.

DATES: General Comments: In preparing the final decision on this proposed rule, we will consider comments received or postmarked on or before May 7, 2012.

Comments on the Information Collection Aspects of this Proposal: Comments on the information collection aspects of this proposed rule will be considered if received by May 7, 2012.

ADDRESSES: General Comments: You may submit comments by one of the following methods:

• Electronically: Go to the Federal eRulemaking Portal: http://www.regulations.gov. In the Keyword box, enter Docket No. FWS-R9-IA-2010-0083, which is the docket number for this rulemaking. Then, in the Search panel on the left side of the screen, under the Document Type heading, click on the Proposed Rules link to locate this document. You may submit a comment by clicking on “Send a Comment or Submission.”

• By hard copy: Submit by U.S. mail or hand-delivery to: Public Comments Processing, Attn: FWS-R9-IA-2010-0083; Division of Policy and Directives Management; U.S. Fish and Wildlife Service; 4401 N. Fairfax Drive, MS 2042-PDM; Arlington, VA 22203.

We will not accept email or faxes. We will post all comments on http://www.regulations.gov. This generally means that we will post any personal information you provide us (see the Public Comments section at the end of SUPPLEMENTARY INFORMATION for further information about submitting comments).

Comments on the Information Collection Aspects of this Proposal: Send comments specific to the information collection aspects of this proposed rule to the Desk Officer for the Department of the Interior at OMB-OIRA at (202) 395-5806 (fax) or OIRA_DOCKET@OMB.eop.gov (email). Please provide a copy of your comments to the Service Information Collection Clearance Officer, Fish and Wildlife Service, MS 222-ARLSQ, 4401 N. Fairfax Drive, Arlington, VA 22203 (mail) or infocol@fws.gov (email). Please identify comments with 1018-AW82.

FOR FURTHER INFORMATION CONTACT: Robert R. Gabel, Chief, Division of Management Authority; U.S. Fish and Wildlife Service; 4401 N. Fairfax Drive, Suite 212; Arlington, VA 22203 (telephone, (703) 358-2093; fax, (703) 358-2280).

SUPPLEMENTARY INFORMATION:

Background

CITES was negotiated in 1973 in Washington, DC, at a conference attended by delegations from 80 countries. The United States ratified the Treaty on September 13, 1973, and it entered into force on July 1, 1975, after it had been ratified by 10 countries. Currently 175 countries have ratified, accepted, approved, or acceded to CITES; these countries are known as Parties.

Section 8A of the Endangered Species Act, as amended in 1982 (16 U.S.C. 1531 et seq.) (ESA), designates the Secretary of the Interior as the U.S. Management Authority and U.S. Scientific Authority for CITES. These authorities have been delegated to the Fish and Wildlife Service. The original U.S. regulations implementing CITES took effect on May 23, 1977 (42 FR 10462, February 22, 1977), after the first meeting of the Conference of the Parties (CoP) was held. The CoP meets every 2 to 3 years to vote on proposed resolutions and decisions that interpret and implement the text of the Treaty and on amendments to the lists of species in the CITES Appendices. The current U.S. CITES regulations (72 FR 48402, August 23, 2007) contain provisions from applicable resolutions and decisions adopted at meetings of the Conference of the Parties up to and including the thirteenth meeting (CoP13), which took place in 2004. In 2008, through a direct final rule, we incorporated certain provisions adopted at CoP14 regarding international trade in sturgeon caviar (73 FR 40983, July 17, 2008).

Proposed Change to 50 CFR Part 13

Scope of regulations (§ 13.3): When we published our current regulations in 2007, we changed the title of 50 CFR part 23. We propose to update the title of 50 CFR part 23 given in § 13.3 to reflect this change.

Application procedures (§ 13.11): We propose to amend the table at § 13.11(d)(4) to include an application to renew the registration of a commercial operation breeding Appendix-I wildlife. See the discussion under § 23.46 in the preamble. We also propose to revise § 13.11(b)(3) by updating the address for the Division of Management Authority and adding the address for the Service's permits Web page.

General information requirements for permit applications (§ 13.12): We propose to update the introductory text of paragraph (b) to clarify that applicants should refer to 50 CFR part 23 for CITES permit application requirements. We also propose to remove from the table at § 13.12(b) the entry for American alligator buyer or tanner permits, because we no longer issue or require such permits.

Proposed Changes to 50 CFR Part 17

Following publication of our current CITES-implementing regulations in August 2007, we became aware that 50 CFR part 17 contains some outdated cross references. Sections 17.62 and 17.72 include references to the previous version of the CITES regulations, and the List of Endangered and Threatened Wildlife in 50 CFR 17.11(h) contains references to a special rule that no longer exists for threatened caiman. When we updated our CITES regulations in 2007, we also amended and consolidated the special rules for threatened crocodilians contained in 50 CFR 17.42. As part of that process, we incorporated the special rule for threatened caiman into the special rule for threatened crocodilians, but that change was not reflected in § 17.11. We propose to update references in part 17 so that they correspond correctly with the current regulations in 50 CFR part 23 and the special rules in 50 CFR 17.42.

Some of the special rules in 50 CFR part 17 contain elements that are outdated or contain CITES requirements that are more appropriate for inclusion in 50 CFR part 23. Most of the special rules that pertain to CITES-listed species were written before the publication of our 2007 CITES regulations. Some of the rules include detailed CITES requirements because those requirements were not contained in 50 CFR part 23 prior to 2007. We propose to remove specific CITES requirements from the special rules in 50 CFR part 17 and, if they are not there already, insert them into our CITES regulations in 50 CFR part 23. These proposed changes, with a few exceptions noted below, do not alter the requirements of the special rules because the requirements added to or already contained in 50 CFR part 23 are functionally the same as those currently contained in the special rules. Under the special rules, specimens may only be imported into the United States if the requirements in 50 CFR part 23 have been met.

The special rules for vicuña (50 CFR 17.40(m)) and beluga sturgeon (50 CFR 17.44(y)) include information regarding CITES requirements for trade in personal and household effects that is now fully contained in 50 CFR 23.15. To reduce redundancy and improve the accuracy and clarity of our regulations, we propose to remove the detailed information on personal and household effects from 50 CFR 17.40(m) and 50 CFR 17.44(y) and refer the readers of those paragraphs to the CITES regulations in 50 CFR part 23. In the special rule for beluga sturgeon, the text regarding personal and household effects contains the quantity of beluga sturgeon caviar (250 grams) that qualifies as a personal or household effect. When the special rule was written, 250 grams was the quantity of sturgeon caviar that CITES Parties had agreed could be traded under the personal or household effects exemption. Since then, the CITES Parties have reduced the quantity of sturgeon caviar that qualifies as a personal or household effect from 250 grams to 125 grams. We have revised our CITES regulations accordingly (see 50 CFR 23.15 and 73 FR 40983, July 17, 2008). By removing the provisions on personal and household effects and directing readers of the special rule to the requirements in 50 CFR part 23, as proposed here, we would effectively bring the beluga sturgeon special rule in line with current CITES requirements. We believe this reduction in the quantity of beluga sturgeon caviar that can be transported as a personal or household effect is necessary and advisable for the conservation of the species.

The special rules for African elephant (50 CFR 17.40(e)) and vicuña (50 CFR 17.40(m)) contain CITES requirements for marking of specimens in international trade. We believe it is more appropriate to include these marking requirements in our CITES regulations in 50 CFR part 23. Therefore, we propose to remove the trophy-marking requirements, including the definition of “lip mark area,” from the African elephant special rule in 50 CFR 17.40(e) and insert them into 50 CFR 23.74, which covers international trade in personal sport-hunted trophies. At CoP15, the Parties adopted a change to the accepted methods for marking of elephant ivory to allow the use of new technologies for permanent marking, including the use of lasers. We propose to incorporate this change into 50 CFR 23.74 and clarify the marking requirements for elephant ivory consistent with Resolution Conf. 10.10 (Rev. CoP15). (See the discussion in the preamble for § 23.74.) We supported the change to the marking requirements at CoP15 and believe these updates are necessary and advisable for the conservation of the species. Under the special rule, African elephant trophies may only be imported into the United States if the requirements (including marking requirements) in 50 CFR part 23 have been met.

Likewise, we propose to remove from the vicuña special rule in 50 CFR 17.40(m) the specific requirements for labeling cloth made from vicuña wool and products made from such cloth, since these are CITES marking requirements, and insert them into a new section in 50 CFR part 23. The labeling requirements in the special rule were drawn from the annotations to the CITES Appendix-II listings for vicuña (see 67 FR 37695, May 30, 2002) that were in place at the time the special rule was written. Since publication of the special rule in 2002, the annotations have been amended by the CITES Parties, most recently at CoP14. We supported the changes adopted at CoP14 and propose to update our labeling requirements to bring them in line with the CITES requirements contained in the current Appendix-II listing annotations for vicuña. These changes will facilitate effective enforcement of conservation measures put in place by the range countries and are therefore necessary and advisable for the conservation of the species. We will retain the marking requirements in the special rule for shipments of wool (referred to as fiber in the current text of § 17.40(m)) sheared from live vicuña because marking of raw wool is not required under CITES. The current text of § 17.40(m) refers to “raw fiber” to describe shipments of raw vicuña wool. We propose to amend this language by using the term “raw wool” instead of “raw fiber” to more accurately characterize the specimens in trade.

In addition, we propose to remove text from the vicuña special rule that addresses the need for the exporting countries to have designated a Management Authority and a Scientific Authority because this requirement is now contained in 50 CFR 23.26. These proposed changes will not alter the requirements of the special rule because the requirements contained in 50 CFR part 23 are functionally the same as those currently contained in the special rule.

We propose to further update the vicuña special rule by clarifying that the exemption under § 17.40(m) applies only to wool sheared from live animals and to cloth and other products made from such wool. We also propose minor edits for clarity and uniformity with other special rules.

We propose to update the address for the Division of Management Authority given in 50 CFR 17.9, 50 CFR 17.21, and 50 CFR 17.44(y), and for the Office of Law Enforcement in 50 CFR 17.40(b) and (h). We propose to clarify in § 17.40(b) who is responsible for reporting take of grizzly bears. We also propose to insert the scientific name for leopard into the special rule in 50 CFR 17.40(f).

We propose to delete Appendix A to 50 CFR Chapter I and the reference to Appendix A in 50 CFR 17.40(e). Appendix A contains an outdated list of two-letter country codes established by the International Organization for Standardization (ISO). The Appendix was added when the African elephant special rule (§ 17.40(e)) was revised in 1982 (47 FR 31384, July 20, 1982) because the country of origin, indicated by the ISO country code, is part of the information that must be included in an ivory mark. An up-to-date list of ISO country codes is now available on both the ISO and CITES Secretariat's Web sites, and we therefore believe it is unnecessary to retain the list in Appendix A.

Proposed Changes to 50 CFR Part 23

Deciding if the regulations apply to your proposed activity (§ 23.2): We propose to add a paragraph to the table in § 23.2 to clarify that if a CITES specimen you possess or want to enter into intrastate or interstate commerce is subject to restrictions on its use after import then the regulations in part 23 apply. We also propose to update the table in § 23.2 to reflect changes proposed for § 23.92. See the discussion in the preamble regarding proposed changes to § 23.92 on exempt wildlife and plants.

Definitions (§ 23.5): Whenever possible we define terms using the wording of the Treaty and the resolutions.

Definitions of “bred for noncommercial purposes” and “cooperative conservation program”: Article VII, paragraph 4, of the Treaty states that specimens of Appendix-I wildlife species bred in captivity for commercial purposes shall be deemed to be specimens of species included in Appendix II. Such specimens can therefore be traded without the need for an import permit (see §§ 23.18 and 23.46). It also provides in Article VII, paragraph 5, that specimens that are bred in captivity may be traded under an exemption certificate (see §§ 23.18 and 23.41). Although the Treaty does not use the term “bred for noncommercial purposes” in Article VII(5), the Parties have agreed to use this term as the intended meaning of paragraph 5 because Article VII(4) addresses specimens bred for commercial purposes.

Our current regulations contain definitions of “bred for noncommercial purposes” and “cooperative conservation program.” These terms were defined based on the interpretation of Article VII, paragraph 5, adopted at CoP11 in Resolution Conf. 11.14 and subsequently (until CoP14) contained in Resolution Conf. 12.10. Our current definition of “bred for noncommercial purposes” specifies that a specimen only qualifies to be treated as bred for noncommercial purposes, and therefore eligible for an exemption certificate, if every donation, exchange, or loan of the specimen is between facilities that are involved in a cooperative conservation program. At CoP14, the Parties removed the definition of “bred for noncommercial purposes” from Resolution Conf. 12.10 (including the reference to cooperative conservation programs) because it was considered to be outside the scope of the resolution, which addresses the procedure for registering and monitoring operations that breed Appendix-I animal species for commercial purposes. The deletion of this paragraph from the resolution leaves it to the Parties to adopt their own interpretation of Article VII, paragraph 5.

The changes adopted at CoP14, and our experiences since publication of our current regulations, have led us to reconsider our definition of “bred for noncommercial purposes.” We propose to amend our definition of “bred for noncommercial purposes” by removing the requirement that the trade be conducted between facilities that are involved in a cooperative conservation program and, consequently, remove from our regulations the definition of “cooperative conservation program” consistent with recent amendments to CITES resolutions. We are aware that it is not always feasible for a breeding operation to participate in or support a recovery activity in cooperation with a range country, as required under our current definition of “bred for noncommercial purposes.” The change proposed would allow an Appendix-I specimen that was bred in captivity to be traded under a CITES exemption certificate where each donation, exchange, or loan of the specimen is noncommercial (e.g., noncommercial breeding by hobbyists), including situations where the donation, exchange, or loan is not between two facilities that are participating in a cooperative conservation program. Our proposed amendment to the definition is consistent with the current CITES resolutions. See also the discussion in the preamble for § 23.18.

Coral definitions: We propose to amend our definitions of “coral (dead),” “coral fragments,” “coral (live),” and “coral sand” in § 23.5 by adding text contained in the coral definitions in the Annex to Resolution Conf. 11.10 (Rev. CoP15) regarding the level to which certain coral specimens are identifiable. This clarifying information was inadvertently omitted from the definitions of these terms in our current regulations. In addition, we propose to add a definition of “coral (stony)” consistent with Resolution Conf. 11.10 (Rev. CoP15), to clarify that the coral definitions in § 23.5 apply to stony corals in the orders Helioporacea, Scleractinia, Stolonifera, Milleporina, and Stylasterina. Due to problems we have encountered in the implementation of the requirements for trade in stony corals, we propose to further revise the definitions of “coral fragments” and “coral sand” to clarify the size of a specimen that meets the definition of a “coral fragment” or “coral sand” and may therefore be considered exempt from the provisions of CITES. The same clarification regarding “coral fragments” was adopted by the Parties at CoP15. To be consistent, we also propose to clarify the size of a specimen that meets the definition of “coral rock.”

Definition of “cultivar”: Prior to CoP15, the CITES Parties had not defined “cultivar,” a term that is used in the CITES Appendices and resolutions. We defined the term in our current regulations based on horticultural and common dictionary definitions. At CoP15, the CITES Parties adopted a definition of “cultivar” in Resolution Conf. 11.11 (Rev. CoP15), which is taken from the eighth edition of the International Code of Nomenclature for Cultivated Plants (Brickell, C.D., Alexander, C., David, J.C., Hetterscheid, W.L.A., Leslie, A.C., Malecot, V. & Xiaobai Jin (eds.) (2009)). We propose to amend the definition of “cultivar” in § 23.5 to more closely match the definition adopted by the Parties at CoP15.

Definition of “introduction from the sea”: We propose to amend the definition of this term by adding a clarification of the phrase “marine environment not under the jurisdiction of any country.” The definition of “introduction from the sea” in Article I, paragraph (e), of the Treaty contains the phrase “marine environment not under the jurisdiction of any State.” At CoP14, the Parties agreed to a definition of this phrase, in Resolution Conf. 14.6, which we propose to incorporate into our regulations. CITES Parties typically use the word “State” to mean country. In our regulations, we use the word “country” and so have chosen to use the word “country” in place of “State” in our definition of introduction from the sea. The CITES Parties continue to work toward achieving a common understanding of the practical application of CITES provisions for introduction from the sea. At CoP15, the Parties agreed that operation of the Standing Committee's working group on introduction from the sea should be extended. In the meantime, our current regulations specify when introduction-from-the-sea provisions apply and what CITES documents are needed for this type of international trade.

Definition of “ranched wildlife”: At CoP14, the Animals and Plants Committees were tasked with determining species for which CITES source code “R” (for “specimens originating from a ranching operation”) has been used, surveying countries that have been applying source code “R” to species other than crocodilians transferred from Appendix I to Appendix II pursuant to ranching, and, if necessary, proposing a revised definition of source code “R” for consideration at CoP15. The United States participated in a working group established to undertake these activities. The group was directed, among other things, to consider the definition of “ranching” and the use of source code “R.” At CoP15, the Parties adopted a revised definition of source code “R” based on the recommendations of the working group. We propose to incorporate the new definition of source code “R” into § 23.5, consistent with the change to Resolution Conf. 12.3 (Rev. CoP15) adopted at CoP15.

Contact information for U.S. CITES Authorities (§ 23.7): The Management Authority and Scientific Authority offices have moved since our current regulations were published. We propose to update the addresses for these offices.

Information collection (§ 23.8): We propose minor edits to this section to incorporate changes, since our regulations were last updated, to the OMB Control Numbers assigned to the information collections associated with 50 CFR part 23.

Prohibitions (§ 23.13): We propose to add text to clarify that violation of any of the provisions of 50 CFR part 23, including use of CITES specimens imported into the United States contrary to what is allowed under § 23.55, is unlawful.

Documents for the export of Appendix-I wildlife and plants (§§ 23.18 and 23.19): Sections 23.18 and 23.19 contain decision trees to help readers determine what type of CITES document is needed for export of an Appendix-I specimen and where in the regulations they can find information regarding the different types of documents. We propose to amend the titles of the decision trees in §§ 23.18 and 23.19 to more accurately reflect their purpose. In addition, we have reevaluated our requirements for export of Appendix-I wildlife and we propose to amend the decision tree in § 23.18 accordingly.

Article VII, paragraph 4, of the Treaty states that specimens of Appendix-I wildlife species bred in captivity for commercial purposes shall be deemed to be specimens of species included in Appendix II. Such specimens can therefore be traded without the need for an import permit. Our current regulations require commercial breeders of Appendix-I wildlife to be registered with the CITES Secretariat in order to export Appendix-I specimens, regardless of the purpose of the import. The decision tree asks, at several points, whether the export of the specimen is for noncommercial purposes. However, because of the way the decision tree is structured, export of specimens bred in captivity (according to CITES criteria) at commercial operations that are not registered with the CITES Secretariat is prohibited, even in small numbers when the intended use of the specimens in the importing country is noncommercial.

Based on our experience since publication of our regulations in 2007, we have concluded that this interpretation is overly restrictive. The exemptions contained in Article VII allow alternatives to the procedures contained in Articles III, IV, and V for trade in CITES-listed species when certain criteria are met. However, if an Appendix-I specimen does not qualify for an exemption under Article VII, it should not, solely on that basis, also be deemed ineligible for a permit or certificate under Article III. We propose to amend the decision tree in § 23.18 by eliminating the boxes that ask if the export is for noncommercial purposes, which will eliminate the requirement that commercial operations breeding Appendix-I species must be registered with the Secretariat to export specimens under any circumstances. We believe this change reflects the appropriate implementation of Articles III and VII. We note, however, that we will continue to scrutinize this trade very carefully and will exercise our right and responsibility under the Treaty to verify whether the Management Authority of the importing country has made the appropriate determination of whether an import is not for primarily commercial purposes. See also the discussion in the preamble for § 23.5 regarding proposed changes to the definition of “bred for noncommercial purposes.”

Information required on CITES documents (§ 23.23): This section details information that must be included on CITES documents. We propose to amend the first sentence of § 23.23(b), where our regulations currently indicate that a CITES document must be “printed,” to reflect agreement by the Parties at CoP15 that CITES documents may be issued in an electronic format. While the Parties agreed that it was possible to issue CITES documents electronically, they also recognized that there is no obligation on Parties to do so. Unless there is specific agreement by all Parties involved that electronic documents are acceptable, Parties issuing electronic documents must also issue them in paper format. Although the United States is not in a position to issue or accept electronic permits at this time, we are aware that other Parties have begun to implement such a system and therefore propose this minor amendment to § 23.23(b).

We currently require that CITES export and re-export documents for live wildlife contain a specific condition that the document is only valid if the transport complies with certain humane-transport standards. The CITES Guidelines for transport and preparation for shipment of live wild animals and plants (CITES Guidelines) and the International Air Transport Association (IATA) Live Animals Regulations are incorporated by reference into our regulations at § 23.23(c)(7). The CITES Guidelines have not been updated since 1981. At CoP14, recognizing that IATA regulations are amended annually and are therefore more responsive to changing needs, and that it is important to provide humane transport conditions for plants as well as wildlife, the Parties agreed to promote the full and effective use of IATA's Live Animals Regulations (for animals) and Perishable Cargo Regulations (for plants) as the standards for the preparation and transport of live specimens. Therefore, we propose to remove reference to the CITES Guidelines and to incorporate by reference the 10th edition of the IATA Perishable Cargo Regulations as the standard for the transport of CITES-listed plants. We propose to further update our regulations by incorporating by reference the 37th edition of the IATA Live Animals Regulations to replace the 33rd edition that is incorporated by reference in our current regulations.

We propose to add language in § 23.23(c) and (e) to clarify that, for products containing more than one CITES species, the CITES document must include specific information (Appendix, scientific name, quantity, source code) for each species. See the discussion in the preamble for § 23.71. We also propose to amend § 23.23(c)(16) to allow the use of official signature stamps on CITES documents, in recognition of this global practice.

Under most circumstances, specimens must be identified on CITES documents using the scientific name of the species to which they belong. The Parties have agreed to a few specific exceptions to this requirement, which are detailed in Resolution Conf. 12.3 (Rev. CoP15). Recognizing the difficulties associated with identification of worked specimens of certain corals in trade, at CoP15 the Parties amended Resolution Conf. 12.3 (Rev. CoP15) to allow the use of higher-taxon names for worked specimens of black coral (Antipatharia). The Parties agreed that worked specimens of black coral may be identified at the genus level where the species cannot be readily determined, and where the genus cannot be readily determined the specimens may be identified using the scientific name of the order Antipatharia. We propose to revise § 23.23(c)(13)(i) to allow the use of higher-taxon names for worked specimens of black coral consistent with the changes adopted at CoP15. We will continue to require that raw black coral and live black coral be identified at the species level.

At CoP14, the Parties agreed to a new quota-setting process for caviar from shared stocks, including a change in the quota year so that it would coincide with the harvest season rather than the calendar year. From 2008 onward, the quota year for caviar from shared stocks begins on the first of March and ends on the last day of February of the following year. We updated § 23.71 accordingly (see 73 FR 40983, July 17, 2008) and now propose to revise the language in § 23.23(e)(5)(i) by removing the word “calendar” to accommodate situations in which quotas are set for a 12-month period other than a calendar year.

Source codes (§ 23.24): Our current regulations in § 23.24 indicate that the source code “O”, for pre-Convention specimens, must be used in conjunction with another source code. This requirement has caused problems at our ports of entry because it is not entirely consistent with the language in Resolution Conf. 12.3 (Rev. CoP15), which states that the pre-Convention source code “may” be used in conjunction with another source code. We propose to revise § 23.24 so that it is more closely aligned with Resolution Conf. 12.3 (Rev. CoP15).

We propose to revise the text for source code “R” (ranched wildlife) to point readers to § 23.5, where we have proposed to insert the definition of “ranched wildlife” adopted by the Parties at CoP15 in Resolution Conf. 12.3 (Rev. CoP15) (see discussion in the preamble for § 23.5).

In § 23.24(d), we propose to add a reference to the definition of “captive-bred wildlife” in § 23.5 to clarify that such specimens must meet the definition in that section. In addition, we propose to remove § 23.24(d)(2)(iii), which refers to cooperative conservation programs, to reflect the changes we have proposed to the definition of “bred for noncommercial purposes.” See the preamble discussion regarding the definition of “bred for noncommercial purposes” in § 23.5.

Validity of CITES documents (§ 23.26): We propose to add three additional circumstances in § 23.26(d) for which we may request verification of a CITES document. When the CITES Secretariat receives information about a quota for publication, there may be technical problems or questions about technical or administrative aspects of the quota that need clarification. Under guidelines contained in Resolution Conf. 14.7 (Rev. CoP15), if the Secretariat is unable to resolve these issues with the Party concerned, the Secretariat is directed to publish the quota with an annotation to indicate its concerns. We wish to notify the public that we may request verification of a CITES document if it is issued for a species with an annotated quota that raises concerns about the validity of the shipment. We may also request verification of a CITES document for a shipment of captive-bred Appendix-I wildlife when the specimens did not originate from a breeding operation that is registered with the CITES Secretariat and we have reason to believe the import is for commercial purposes. In addition, if we receive a CITES export document on which the actual quantity exported has not been validated or certified at the time of export we may request verification of the document.

We have proposed to update the documents incorporated by reference into our regulations at § 23.23(c)(7) that provide guidance on humane transport of live specimens. (See the preamble discussion for § 23.23.) We propose to update the entry on humane transport in the table at § 23.26 to reflect these changes.

Presentation of documents at the port (§ 23.27): We propose to add text from the Treaty to this section to highlight the requirement for Management Authorities to cancel and retain original CITES documents upon import. We also propose to clarify that authorized inspecting officials for imports into the United States of CITES-listed plants are responsible for the cancellation and collection of original documents for submission to the U.S. Management Authority. FWS Law Enforcement collects and makes available to the U.S. Management Authority original CITES documents accompanying wildlife shipments entering the United States. Original CITES documents accompanying imports of CITES-listed plant specimens are collected by U.S. Customs and Border Protection (CBP) and the U.S. Department of Agriculture, Animal and Plant Health Inspection Service (APHIS), for submission to the U.S. Management Authority. Documents are maintained in accordance with the FWS Records Disposition Schedule.

Records for ranched specimens and for plants grown from exempt plant material (§ 23.34): The table at § 23.34 provides information on the types of records an individual may provide to show the origin of a specimen when applying for a U.S. CITES document. We are proposing a minor revision to the entry in the table for “exempt plant material” to make it clear that we are referring to plants grown from exempt plant material and not the exempt material itself, which does not require a CITES document.

Prior to CoP15, we considered any specimen that had been removed from the wild at an early age and raised in captivity to be wild-caught, and as a result, we used the source code “W” when issuing CITES documents for these specimens. With this proposed rule, however, we intend to incorporate into our regulations the definition of “ranched specimen” adopted at CoP15 (see the preamble discussions for §§ 23.5 and 23.24). Many of the specimens we previously considered “wild” will qualify as “ranched” under the new definition. We propose to add an entry to the table in § 23.34 describing the types of records an applicant may want to provide to demonstrate that his or her specimens qualify for issuance of a CITES document with source code “R” (ranched wildlife).

Trade in Appendix-I plant hybrids (§§ 23.19, 23.23, 23.40, 23.42, 23.47, and 23.92): We propose to add cross-references in §§ 23.40 and 23.47 to clarify the required use of different types of CITES documents and different source codes for hybrids of Appendix-I plant species or taxa depending on whether the Appendix-I listings are annotated to treat hybrids as Appendix-I specimens. We also propose to amend text in §§ 23.19, 23.23, 23.40, 23.42, and 23.92 that refers to certain Appendix-I plant listings as “not annotated to include hybrids” so that it instead refers to these listings as “not annotated to treat hybrids as Appendix-I specimens.” These revisions do not change the meaning or the intent of these sections, but more accurately describe CITES provisions regarding annotations and Appendix-I plant hybrids.

Applications for export permits (§§ 23.36, 23.41, 23.69, 23.70, and 23.71): Over the years, to facilitate the application process, we have developed applications for CITES documents that are tailored to specific activities. Since our regulations were last updated, we have created two new application forms: One for the export of sturgeon and sturgeon products from aquaculture facilities; and another for establishment of a master file for the export of live animals that qualify as bred-in-captivity. The Office of Management and Budget (OMB) approved the collection of information associated with these application forms under OMB Control Number 1018-0093, which expires February 28, 2014. We propose to add references to the new applications in the relevant sections of the regulations (§§ 23.41 and 23.71). We also propose to add these new applications to the table in § 23.36, which lists the types of applications (and the FWS form numbers) for export permits. In addition, we propose to update the entry in the table for the application to export trophies, to make clear that it can be used by both hunters and taxidermists. We have made some changes to the application procedures for export of products made from crocodilian skins or fur skins. We propose to update §§ 23.69 and 23.70 to reflect these changes.

Seeds and spores (§§ 23.40 and 23.64): At CoP15, the CITES Parties amended Resolution Conf. 11.11 (Rev. CoP15) so that all references to the term “seeds” also refer to “spores,” since seeds and spores are treated the same way under CITES. We propose to make a corresponding change to subparagraph (e)(1) in § 23.40 and to subparagraph (g)(4)(ii) in § 23.64, to refer to “seeds or spores,” consistent with Resolution Conf. 11.11 (Rev. CoP15).

Wildlife hybrids (§ 23.43): Section 23.43 allows for an exemption from CITES document requirements for hybrid wildlife specimens that meet specific criteria. We propose to clarify that an individual who is unable to clearly demonstrate that his or her wildlife specimen meets the criteria for an exempt hybrid must obtain a CITES document. Since 2007, when our current regulations were published, we have experienced problems at our ports with individuals claiming the exemption for hybrids without documentation to clearly demonstrate that their specimens meet the criteria. We propose to provide examples of the types of records an individual may use to demonstrate that a particular specimen meets the criteria for an exempt hybrid. Records used to demonstrate that a specimen meets the criteria for the exemption must both clearly identify the wildlife specimen and describe its recent lineage. Many pedigrees simply provide names of animals in a specimen's lineage, but fail to show the relationship to any CITES-listed animals in its ancestry or any other information to clearly show that the animal to be traded has no purebred CITES species in its previous four generations. A certified pedigree that can be identified as belonging to the specimen to be traded and that contains the scientific names of the animals in the specimen's lineage, and therefore clearly illustrates its genetic history, would show whether or not the specimen meets the criteria for an exempt wildlife hybrid. Lack of adequate documentation does not prevent the international movement of a hybrid wildlife specimen, but it does require the importer or exporter to obtain the appropriate CITES document.

International travel with personally owned, live wildlife (§ 23.44): Since publication of our current regulations in 2007, we have become aware of some confusion regarding the purpose and appropriate use of certificates of ownership for personally owned live wildlife (also known as a “pet passports”). We propose to clarify that such documents are to be used for frequent, short-term travel by an individual when accompanied by his or her personally owned, live wildlife (e.g., for vacations, to attend competitions, or for similar purposes of relatively short duration) and that this individual is to return with the wildlife to his or her country of usual residence at the end of the trip. Travel of longer duration, including an international move, should take place under a CITES export or re-export document, not under a certificate of ownership. We propose to add text to § 23.44 to specify that, for certificates issued by the U.S. Management Authority, the owner must return to the United States with the animal covered by the certificate of ownership before the certificate expires, similar to the requirements for specimens covered under a traveling exhibition certificate (see § 23.49).

Registration of a commercial breeding operation for Appendix-I wildlife (§ 23.46): Article VII, paragraph 4, of the Treaty states that specimens of Appendix-I animal species bred in captivity for commercial purposes shall be deemed to be specimens of species included in Appendix II. For such specimens, a Management Authority may grant an export permit or a re-export certificate without requiring the prior issuance of an import permit, thus allowing the specimens to be traded commercially. However, the species remain listed in Appendix I, and therefore such specimens are not eligible for any exemption limited specifically to an Appendix-II species or taxon, such as less-restrictive provisions for personal and household effects.

Resolution Conf. 12.10 (Rev. CoP15) provides guidelines for registering and monitoring operations that breed Appendix-I animals for commercial purposes. Section 23.46 implements the resolution by establishing a procedure for operations that breed Appendix-I animals for commercial purposes to become registered with the CITES Secretariat. At CoP15, the Parties adopted changes to the registration process to address the sometimes lengthy delays that can occur when an objection is raised regarding an application to register a breeding facility. Previously, if the concerns of the objecting Party could not be resolved through consultation with the proponent Party, the registration application would be decided by a vote of the Parties at the next CoP. Depending on when the objections were raised, up to 3 years could pass before a decision was taken. The revisions adopted at CoP15 reduce the time frame (from 60 to 30 days) for consultations between the objecting Party and the proponent Party, and if those consultations do not resolve the objection, the Secretariat will submit the registration application to the Standing Committee at its next regular meeting, which would usually occur within a year. We expect that referring disputed applications to the Standing Committee instead of the CoP will significantly reduce potential delays in the registration process. We propose to revise § 23.46(b) to incorporate changes to the registration process adopted at CoP15.

Under Resolution Conf. 12.10 (Rev. CoP15), registered commercial breeding operations are to be monitored by the Management Authority, in collaboration with the Scientific Authority, and the Management Authority is to advise the CITES Secretariat of any major change in the nature of an operation or in the products it is producing for export. Our current regulations include an annual reporting requirement to facilitate monitoring of registered operations. We propose to eliminate the annual reporting requirement in § 23.46 and establish instead a process for registration renewal. The registration renewal will be less burdensome for the registrants, but will allow us to monitor these facilities and identify major changes in their operating practices.

We propose to limit the length of time a registration is valid to not more than 5 years. The proposed criteria for renewal are the same as the criteria for registration of a new operation. However, unlike the process for initially registering a commercial breeding operation, the renewal process does not require us to contact the CITES Secretariat or to consult other CITES Parties. If necessary, upon renewal or at any time we receive significant new information on a registered operation, we will provide the updated information to the CITES Secretariat.

Replacement documents (§ 23.52): A Management Authority may issue a replacement CITES document when the original document has been lost, damaged, stolen, or accidentally destroyed. Section 23.52 contains provisions for issuance and acceptance of replacement CITES documents. We propose to clarify the procedures and amend the criteria for issuance and acceptance of replacement CITES documents in the United States. Since the publication of our 2007 CITES regulations, we have experienced situations in which individuals have significantly delayed submission of required documents for clearance of a shipment while they tried to obtain a replacement document without our knowledge. In addition, importers or their agents have attempted to submit “replacement” documents when no document had ever been issued or when the original document was invalid. We propose to more closely align the criteria for issuance and acceptance of replacement CITES documents in the United States with those for issuance and acceptance of retrospective documents found in § 23.53. Proposed amendments to the criteria include: Requirements that specimens are presented to the appropriate official at the time of import and that the request for a replacement document is made at that time; the need for proof of original valid documents; and a statement of responsibility.

In the United States, an individual may qualify to receive multiple single-use CITES documents under a master file or annual program. We propose to clarify that you may not use one of the documents issued under a master file or annual program as a replacement document, but must apply for and receive a separate replacement document. The amendments we are proposing to this section will clarify the requirements and procedures for obtaining a replacement CITES document.

Retrospective CITES documents (§ 23.53): In certain limited circumstances, CITES documents may be issued and accepted to authorize an export or re-export that has already occurred or to correct technical errors on a document accompanying a shipment that has already occurred. We propose to add text to clarify that we may issue or accept a retrospective document in circumstances where a technical error was made by the issuing Management Authority at the time the original document was issued. As we have for replacement documents, we propose to clarify in this section that an individual may not use a CITES document issued under a master file or an annual program as a retrospective document, but must apply for and receive a separate retrospective document (see the discussion in the preamble for replacement documents, § 23.52). We also propose to clarify that “personal or household effects” in § 23.53(d)(7)(i) means specimens that meet the definition of “personal effect” or “household effect” in § 23.5.

Use of CITES specimens after import into the United States (§ 23.55): This section provides conditions for the import and subsequent use of certain CITES specimens. Its purpose is to prevent commercial use of specimens after import into the United States when the trade allowed under CITES is only for a noncommercial purpose. Under Article II of the Treaty, trade in Appendix-I specimens “must only be authorized in exceptional circumstances.” Unless an Appendix-I wildlife or plant specimen qualifies for an exemption under Article VII of the Treaty, it can be imported only when the intended use is not for primarily commercial purposes. The import and subsequent use of Appendix-I specimens and certain Appendix-II specimens, including transfer, donation, or exchange, may be only for noncommercial purposes. Other Appendix-II specimens and any Appendix-III specimen may be used for any lawful purpose after import, unless the trade allowed under CITES is only for noncommercial purposes. See the preambles in our previous rulemaking documents, 71 FR 20167, April 19, 2006 (proposed rule), and 72 FR 48402, August 23, 2007 (final rule), for further discussion.

Since publication of our regulations in 2007, we have given further consideration to the allowed use of a specimen within the United States when the listing status of the species changes after a specimen has been imported. We propose to amend this section to clarify that the allowed use after import into the United States is determined by the current status of the specimen under CITES and the ESA, except for a specimen of an Appendix-I species or an Appendix-II species annotated for noncommercial purposes that was imported before the species was listed in Appendix I or listed in Appendix II with an annotation disallowing commercial use. Where an individual can demonstrate that his or her specimen was imported with no restrictions on its use after import, prior to the species being listed in Appendix I or Appendix II with a relevant annotation, we propose to continue to allow its unrestricted use within the United States.

We have considered the individual who may, for example, have imported Appendix-II specimens that had no restrictions on their domestic use and be lawfully utilizing the specimens as part of a commercial breeding operation. Under our current regulations, he or she may be precluded from continuing such activities if the species is subsequently listed in Appendix I. We do not believe it is necessary for ensuring the conservation and sustainable use of the species to retroactively apply current import-export restrictions to domestic use of specimens that were legally imported prior to the imposition of those restrictions. Therefore, where an individual can clearly demonstrate that his or her specimens were legally imported prior to the Appendix-I listing, we propose not to treat those specimens as specimens of an Appendix-I species with regard to their use within the United States.

Consistent with our current regulations, we continue to believe that restrictions on the allowed use after import of specimens of Appendix-I species may be relaxed if the status of the species improves and it is subsequently listed in Appendix II or removed from the Appendices. If the status of a species has changed so that it no longer requires the strict protections (including the prohibition on commercial trade) provided by an Appendix-I listing and it is not listed under the ESA, we see no conservation need for requiring that specimens imported when the species was listed in Appendix I continue to be used only for noncommercial purposes. Other applicable laws, however, may continue to restrict use of the specimen.

Under the change we are proposing, if an Appendix-II specimen is imported with no restrictions on its use (i.e., it is not protected under the ESA and it is not subject to an annotation requiring that it be used only for noncommercial purposes) and the species is subsequently transferred to Appendix I, if you can clearly demonstrate that your specimen was imported prior to the Appendix-I listing, use of the specimen within the United States will not change (i.e., it will not be restricted) with the change in the status of the species under CITES. As is currently the case, the allowed use of an Appendix-I specimen imported for noncommercial purposes may change if the species is subsequently transferred to Appendix II or removed from the Appendices. In such a case, the allowed use of the specimen within the United States will be determined by the current listing status of the species, not the status of the species at the time it was imported.

We also propose to revise the list in § 23.55(d) of Appendix-I specimens imported with a CITES exemption document that may be used for any lawful purpose after import (unless other restrictions apply), by adding hybrid plants derived from one or more unannotated Appendix-I species exported under a certificate for artificially propagated plants (with a source code “A”). The Parties have agreed, in Resolution Conf. 11.11, that such specimens are regarded as being included in Appendix II.

Conditions on CITES documents (§ 23.56): We are proposing to update the documents incorporated by reference into our regulations at § 23.23(c)(7) that provide guidance on humane transport of live specimens. (See the preamble discussion for § 23.23.) We propose to update the text at § 23.56(a)(2) regarding humane-transport conditions to reflect these changes.

Trade in native CITES furbearer species (§ 23.69): We propose to revise the title of this section and the definition of “CITES furbearers” by adding the phrase “harvested in the United States” to the end of both to clarify the scope of this section. Our current regulations at § 23.69 define “CITES furbearers” to mean bobcat (Lynx rufus), river otter (Lontra canadensis), Canada lynx (Lynx canadensis), and the Alaskan populations of gray wolf (Canis lupus) and brown bear (Ursus arctos). For consistency and clarity, we propose to further amend our definition of “CITES furbearers” to include all U.S. populations of gray wolf and brown bear. All five of the species included in our definition of “CITES furbearers” are listed in CITES Appendix II. Certain populations of three of these species, Canada lynx, gray wolf, and brown bear, are also listed under the ESA. We initially considered that only the Alaskan populations of gray wolf and brown bear should be included in our definition of “CITES furbearers” because the Alaskan populations are not ESA-listed. However, the same is true for the Canada lynx, which is included in our definition throughout its U.S. range. Upon further review, we believe it is more appropriate to base the definition of “CITES furbearers” on the CITES listings of these species. The definition in § 23.69 includes those native furbearers for which States may request approval of a CITES export program. Although the State of Alaska is the only State that currently has CITES export approval for gray wolf or brown bear, we do not want to prohibit other States from seeking export approval for these species in the future if the legal and conservation status of their populations change.

Section 23.69 details the CITES requirements for import, export, or re-export of fur skins from CITES furbearers and the requirements that must be met for export approval of State or tribal programs for CITES furbearers. Activities involving specimens from populations of CITES furbearers that are protected under the ESA must also meet the requirements for ESA-listed species in part 17 and elsewhere in this title (see § 23.3).

Tagging of CITES fur skins and crocodilian skins (§§ 23.69 and 23.70): We propose to amend §§ 23.69 and 23.70 to clarify the appropriate use of CITES replacement tags for CITES fur skins and crocodilian skins. These sections specify that skins with broken, cut, or missing tags may not be exported and provide a procedure for obtaining replacement tags where this is the case. However, the regulations are not intended to allow for the use of CITES replacement tags in place of tags that have been deliberately removed to facilitate processing or for other reasons. Replacement tags are intended to be used to replace CITES tags that have been inadvertently cut or damaged, or where the original CITES tags are lost. Although CITES tags sometimes break during transport or processing and may sometimes fail as a result of a defect, it has been our experience that the failure rate is very low (less than 5 percent) and that replacement tags are needed infrequently. We also propose to amend the phrases in § 23.69 paragraphs (c)(3) and (c)(3)(i) and in § 23.70 paragraphs (d)(3) and (d)(3)(i) referring to “broken, cut, or missing” tags to be more consistent with the terminology used in Resolution Conf. 11.12 (Rev. CoP15).

In addition, we propose to incorporate changes to tagging requirements adopted by the Parties at CoP15, including adding “tamper-resistant” to the required characteristics of CITES tags for crocodilians in § 23.70(d)(1)(i) and clarifying that the “year of production” in § 23.70(d)(1)(ii) and (iii) and in § 23.70(d)(3)(ii) refers to the year of skin production. We also propose to remove the requirement in § 23.70(d)(2) that chalecos must have a tag attached to each flank, another change adopted by the Parties at CoP15.

Our regulations in § 23.70 pertaining to tagging of crocodilian skins in international trade are based on the tagging requirements laid out in Resolution Conf. 11.12 (Rev. CoP15) and currently require that the year of production or harvest be included in the information permanently stamped on each tag. A question has recently been raised on the CITES Secretariat's electronic forum for Management Authorities regarding the need for all crocodilian tags to contain the year of production or harvest. We agree with the interpretation put forward on the forum that the relevant language from Resolution Conf. 11.12 (Rev. CoP15) concerning the minimum information to be included on a crocodilian tag (“* * * and, where appropriate, the year of skin production or harvest, in accordance with the provisions of Resolution Conf. 11.16 (Rev. CoP15) * * *”) indicates that it may not always be appropriate to include the year of skin production or harvest on the tag. We also agree that the resolution language can be interpreted to mean that it is appropriate to include the year of skin production or harvest on tags for specimens subject to Resolution Conf. 11.16 (Rev. CoP15), i.e., specimens of species from populations that have been transferred from Appendix I to Appendix II for ranching, but not necessarily for all other specimens. The resolution leaves some room for interpretation by the Parties. Therefore, we propose to amend § 23.70(d)(1)(ii) to require that the year of skin production or harvest be included only on tags for crocodilian specimens from populations that have been transferred from Appendix I to Appendix II for ranching. The proposed amendment provides discretion for range countries to decide (based on their national management regimes and systems for tracking specimens in trade, etc.) whether it is appropriate for them to include the year of skin production or harvest on tags they issue for specimens other than those specimens from populations of species that have been transferred from Appendix I to Appendix II for ranching. We will continue to include the year of skin production or harvest on U.S. tags for export of American alligator skins because several of our States require that it be included. These proposed amendments will make our regulations more consistent with Resolution Conf. 11.12 (Rev. CoP15).

Sturgeon caviar (§ 23.71): We propose to revise this section to provide further guidance on caviar-labeling requirements and the requirements for trade in sturgeon and sturgeon products other than caviar. We propose to amend our definition of “sturgeon caviar” to clarify that it refers to roe processed for human consumption, the commonly understood meaning of the term, and does not include sturgeon or paddlefish eggs or extracts contained in shampoos, cosmetics, lotions, or other products for topical application. These products containing sturgeon or paddlefish eggs or extracts are regulated under CITES and must meet the other requirements in part 23, but are not subject to the caviar-labeling requirements in § 23.71. We also propose to remove the reference to “caviar products” from § 23.71(g) and add text in § 23.23(c) and (e) stating the need for CITES documents to clearly indicate the scientific name and exact quantity of each species contained in any product because this requirement applies to all products containing CITES species, not just to products containing sturgeon roe. We also propose to provide information on how U.S. exporters and re-exporters may be added to the “Register of licensed exporters and of processing and repackaging plants for specimens of sturgeon and paddlefish species” maintained by the CITES Secretariat in accordance with Resolution Conf. 12.7 (Rev. CoP14).

Sport-hunted trophies (§ 23.74): At the time our current regulations were written, the CITES Parties had not defined “sport-hunted trophy.” We therefore developed the definition in § 23.74(b) based on our experience with international trade in these items and the commonly understood meaning of the term from the dictionary and other wildlife regulations. (See 72 FR 48402, August 23, 2007, for further background.)

Prior to CoP15, as part of its regular review of resolutions, the Secretariat suggested that the Parties consider developing a definition of “hunting trophy” that could be added to a CITES resolution. The United States participated in discussions through an online forum prior to CoP15 and in a working group established at CoP15 to consider a CITES definition of “hunting trophy.” At CoP15, the Parties adopted a definition of “hunting trophy” in Resolution Conf. 12.3 (Rev. CoP15). The major difference between the definition in our current CITES regulations and the definition adopted by the Parties is that the definition in Resolution Conf. 12.3 (Rev. CoP15) allows manufactured items derived from the hunted animal to be considered part of a “hunting trophy,” whereas our definition in 50 CFR part 23 specifically excludes such items. We continue to have concerns about the possible import of fully manufactured products as part of a “hunting trophy” when the items were actually purchased at a store or from a taxidermist, for example, and were not made from the sport-hunted trophy animal. Therefore, we propose to incorporate into § 23.74(b) the definition contained in Resolution Conf. 12.3 (Rev. CoP15) with some additional text to clarify the conditions under which we will allow the import into the United States of manufactured items as part of a “hunting trophy.” If we ultimately incorporate the CITES definition into our regulations, we will carefully monitor imports of sport-hunted trophies, particularly imports of manufactured items as parts of sport-hunted trophies, to evaluate the impact of this change. If we identify problems with implementation of the new definition that result in increased conservation risks to these species, we will revisit our definition of “sport-hunted trophy” and propose revisions as needed.

We propose to move the CITES marking requirements for African elephant trophies and the definition of “lip mark area” from the African elephant special rule (50 CFR 17.40(e)) into § 23.74. (See the discussion in the preamble on proposed changes to 50 CFR part 17.) In addition, at CoP15, the Parties adopted a change to the accepted methods for marking of elephant ivory to allow the use of new technologies for permanent marking, including the use of lasers. We propose to incorporate this change and clarify the marking requirements for elephant ivory consistent with Resolution Conf. 10.10 (Rev. CoP15).

In addition, we propose to amend § 23.74(d) to clarify that the requirements in that paragraph apply to sport-hunted trophies from populations for which the Conference of the Parties has established an annual export quota. We propose some new text and rearrangement of existing text in § 23.74(d) and a new paragraph § 23.74(e). Although the marking requirements and numbers of trophies from these populations that may be imported have not changed, for clarity, we have laid out these paragraphs in their entirety.

Trade in vicuña (§ 23.75): We propose to add a new section to the regulations to address the requirements for international trade in specimens of vicuña. Certain populations of vicuña are listed in Appendix II for the exclusive purpose of allowing international trade in wool sheared from live animals, cloth made from that wool, and products made from the cloth or wool. The CITES Parties have adopted specific requirements for labeling of these vicuña products in international trade. These requirements are currently contained in our special rule for threatened vicuña in 50 CFR part 17. We believe it is more appropriate to include these specific CITES requirements in our CITES regulations and therefore we propose to remove them from part 17 and insert them into a new section (§ 23.75) in part 23. (See the discussion in the preamble regarding proposed changes to part 17.) We also propose minor changes to more accurately reflect the labeling requirements contained in the current annotations to the CITES vicuña listings (see the discussion in the preamble regarding changes to the vicuña special rule in part 17).

Roles of the Secretariat and the committees (§ 23.84): At CoP14, the Parties agreed to dissolve the Nomenclature Committee and move its duties and responsibilities to the Animals and Plants Committees. The CoP now appoints a specialist on zoological nomenclature to the Animals Committee and a specialist on botanical nomenclature to the Plants Committee to undertake the work previously performed by the Nomenclature Committee. These individuals are ex officio and non-voting. We propose to incorporate these changes, described in Resolution Conf. 11.1 (Rev. CoP15) and Resolution Conf. 12.11 (Rev. CoP15), into our regulations at § 23.84.

Exempt wildlife and plants (§ 23.92): We propose to revise this section to make a distinction between species or specimens that are always exempt from CITES requirements and those that are exempt if they meet certain conditions.

Required Determinations

Regulatory Planning and Review: The Office of Management and Budget (OMB) has determined that this rule is not significant. OMB bases its determination upon the following four criteria:

(a) Whether the rule will have an annual effect of $100 million or more on the economy or adversely affect an economic sector, productivity, jobs, the environment, or other units of the government.

(b) Whether the rule will create inconsistencies with other agencies' actions.

(c) Whether the rule will materially affect entitlements, grants, user fees, loan programs, or the rights and obligations of their recipients.

(d) Whether the rule raises novel legal or policy issues.

Regulatory Flexibility Act: Under the Regulatory Flexibility Act (as amended by the Small Business Regulatory Enforcement Fairness Act (SBREFA) of 1996), whenever a Federal agency is required to publish a notice of rulemaking for any proposed or final rule, it must prepare and make available for public comment a regulatory flexibility analysis that describes the effect of the rule on small entities (i.e., small businesses, small organizations, and small government jurisdictions) (5 U.S.C. 601 et seq.). However, no regulatory flexibility analysis is required if the head of an agency certifies that the rule would not have a significant economic impact on a substantial number of small entities. Thus, for a regulatory flexibility analysis to be required, impacts must exceed a threshold for “significant impact” and a threshold for a “substantial number of small entities.” See 5 U.S.C. 605(b). SBREFA amended the Regulatory Flexibility Act to require Federal agencies to provide a statement of the factual basis for certifying that a rule would not have a significant economic impact on a substantial number of small entities.

The U.S. Small Business Administration (SBA) defines a small business as one with annual revenue or employment that meets or is below an established size standard. We expect that the majority of the entities involved with international trade in CITES specimens would be considered small as defined by the SBA. The declared value for U.S. international trade in CITES wildlife (not including plants) was $819 million in 2000, $428 million in 2001, $345 million in 2002, $394 million in 2003, $1.5 billion in 2004 (including one export of a single panda to China with a declared value of $1 billion), $737 million in 2005, $748 million in 2006, $1.0 billion in 2007, and $846 million in 2008.

This proposed rule would create no substantial fee or paperwork changes in the permitting process. The regulatory changes are not major in scope and would create only a modest financial or paperwork burden on the affected members of the general public. The proposed change from the current annual reporting requirement for registered facilities breeding Appendix-I wildlife to a 5-year renewal requirement would reduce the paperwork burden for these facilities.

This proposed rule would benefit businesses engaged in international trade by providing updated and clearer regulations for the international trade of CITES specimens. We do not expect these benefits to be significant under the Regulatory Flexibility Act. The authority to enforce CITES requirements already exists under the ESA and is carried out by regulations contained in 50 CFR part 23. The requirements that must be met to import, export, and re-export CITES species are based on the text of CITES, which has been in effect in the United States since 1975.

We therefore certify that this proposed rule would not have a significant economic effect on a substantial number of small entities as defined under the Regulatory Flexibility Act (5 U.S.C. 601 et seq.). A Regulatory Flexibility Analysis is not required. Accordingly, a Small Entity Compliance Guide is not required.

Small Business Regulatory Enforcement Fairness Act: This proposed rule is not a major rule under 5 U.S.C. 804(2), the Small Business Regulatory Enforcement Fairness Act. This rule:

a. Would not have an annual effect on the economy of $100 million or more. This proposed rule provides the importing and exporting community in the United States with updated and more clearly written regulations implementing CITES. This proposed rule would not have a negative effect on this part of the economy. It would affect all importers, exporters, and re-exporters of CITES specimens equally, and the benefits of having updated guidance on complying with CITES requirements would be evenly spread among all businesses, whether large or small. There is not a disproportionate share of benefits for small or large businesses.

b. Would not cause a major increase in costs or prices for consumers; individual industries; Federal, State, tribal, or local government agencies; or geographic regions. The proposed rule would result in a small increase in fees for registered operations breeding Appendix-I species due to the requirement for renewal of registrations every 5 years.

c. Would not have significant adverse effects on competition, employment, investment, productivity, innovation, or the ability of U.S.-based enterprises to compete with foreign-based enterprises. This proposed rule would assist U.S. businesses and individuals traveling abroad in ensuring that they are meeting all current CITES requirements, thereby decreasing the possibility that shipments may be delayed or even seized in another country that has implemented CITES resolutions not yet incorporated into U.S. regulations.

Unfunded Mandates Reform Act: Under the Unfunded Mandates Reform Act (2 U.S.C. 1501 et seq.):

a. This proposed rule would not significantly or uniquely affect small governments. A Small Government Agency Plan is not required. As the lead agency for implementing CITES in the United States, we are responsible for monitoring import and export of CITES wildlife and plants, including their parts, products, and derivatives, and issuing import and export documents under CITES. The structure of the program imposes no unfunded mandates. Therefore, this proposed rule would have no effect on small governments' responsibilities.

b. This proposed rule would not produce a Federal requirement of $100 million or greater in any year and is not a “significant regulatory action” under the Unfunded Mandates Reform Act.

Takings: Under Executive Order 12630, this proposed rule does not have significant takings implications. A takings implication assessment is not required because the proposed rule would not further restrict the import, export, or re-export of CITES specimens. Rather, the proposed rule would update and clarify the regulations for the import, export, and re-export of CITES specimens, which would assist the importing and exporting community in conducting international trade in CITES specimens.

Federalism: These proposed revisions to part 23 do not contain significant Federalism implications. A Federalism Assessment under Executive Order 13132 is not required.

Civil Justice Reform: Under Executive Order 12988, the Office of the Solicitor has determined that this proposed rule does not unduly burden the judicial system and meets the requirements of sections 3(a) and 3(b)(2) of the Order.

Paperwork Reduction Act: This proposed rule contains a collection of information that we have submitted to OMB for review and approval under the Paperwork Reduction Act of 1995 (44 U.S.C. 3501 et seq.). We may not conduct or sponsor and a person is not required to respond to a collection of information unless it displays a currently valid OMB control number.

OMB approved the information collection requirements associated with the initial registration of commercial facilities that breed CITES Appendix-I animals (FWS Form 3-200-65) and assigned OMB Control Number 1018-0093, which expires February 28, 2014. Under our current regulations, once a facility is registered, the registration does not expire. We are proposing to limit the length of time a registration is valid to no more than 5 years. Applicants will use Form 3-200-65, the same form used to request the initial registration, to request renewal of a registration. We will use the information collected through the renewal process to determine if an operation still meets the requirements for registration under CITES.

There are currently 15 U.S. commercial breeding operations registered with the CITES Secretariat, and we have 9 pending applications for registration. For each operation that wishes to renew its registration, the frequency of response will be at least every 5 years. We estimate that we would have no more than 5 applications for renewal in any given year and that the public burden for this information collection would be 20 hours per response. This estimate includes time for reviewing instructions, gathering and maintaining data, and completing and reviewing the application form.

OMB Control No.: 1018-NEW.

Title: Renewal of Registration for Appendix-I Commercial Breeding Operations (CITES).

Service Form Number(s): 3-200-65.

Description of Respondents: Registered commercial facilities that breed Appendix-I (CITES) animals.

Respondent's Obligation: Required to obtain or retain a benefit.

Frequency of Collection: Once every 5 years.

Total Annual Number of Responses: 5.

Completion Time per Response: 20 hours.

Total Annual Burden Hours: 100 hours.

Total Annual Non-hour Cost Burden: $250 (application fee of $50 for each renewal).

After we issue final regulations, we will incorporate the new information collection burden for Form 3-200-65 into OMB Control No. 1018-0093.

As part of our continuing efforts to reduce paperwork and respondent burdens, we invite the public and other Federal agencies to comment on any aspect of the reporting burden associated with this proposed information collection. We specifically invite comments concerning:

(1) Whether or not the collection of information is necessary for the proper performance of our management functions involving CITES, including whether or not the information will have practical utility;

(2) The accuracy of our estimate of the burden for this collection of information;

(3) Ways to enhance the quality, utility, and clarity of the information to be collected; and

(4) Ways to minimize the burden of the collection of information on respondents.

If you wish to comment on the information collection requirements of this proposed rule, send your comments directly to OMB (see detailed instructions under the heading Comments on the Information Collection Aspects of this Proposal in the ADDRESSES section). Please identify your comments with 1018-AW82. Please provide a copy of your comments to the Service Information Collection Clearance Officer (see detailed instructions under the heading Comments on the Information Collection Aspects of this Proposal in the ADDRESSES section).

National Environmental Policy Act (NEPA): This proposed rule has been analyzed under the criteria of the National Environmental Policy Act, the Department of the Interior procedures for compliance with NEPA (Departmental Manual (DM) and 43 CFR part 46), and Council on Environmental Quality regulations for implementing the procedural provisions of NEPA (40 CFR parts 1500-1508). This proposed rule does not amount to a major Federal action significantly affecting the quality of the human environment. An environmental impact statement or evaluation is not required. This proposed rule is a regulation that is of an administrative, legal, technical, or procedural nature, and its environmental effects are too broad, speculative, or conjectural to lend themselves to meaningful analysis under NEPA. The FWS has determined that this proposed rule is categorically excluded from further NEPA (42 U.S.C. 4321 et seq.) review as provided by 516 DM 2, Appendix 1.9, of the Department of the Interior National Environmental Policy Act Revised Implementing Procedures and 43 CFR 46.210(i). No further documentation will be made.

Government-to-Government Relationship with Tribes: Under the President's memorandum of April 29, 1994, “Government-to-Government Relations with Native American Tribal Governments” (59 FR 22951) and 512 DM 2, we have evaluated possible effects on Federally recognized Indian Tribes and have determined that there are no effects. Individual tribal members must meet the same regulatory requirements as other individuals who trade internationally in CITES species.

Energy Supply, Distribution, or Use: On May 18, 2001, the President issued Executive Order 13211 on regulations that significantly affect energy supply, distribution, or use. This proposed rule would revise the current regulations in 50 CFR part 23 that implement CITES. The regulations provide procedures to assist individuals and businesses that import, export, and re-export CITES wildlife and plants, and their parts, products, and derivatives, to meet international requirements. This proposed rule would not significantly affect energy supplies, distribution, and use. Therefore, this action is a not a significant energy action and no Statement of Energy Effects is required.

Clarity of this regulation: We are required by Executive Orders 12866 and 12988 and by the Presidential Memorandum of June 1, 1998, to write all rules in plain language. This means that each rule we publish must:

(a) Be logically organized;

(b) Use the active voice to address readers directly;

(c) Use clear language rather than jargon;

(d) Be divided into short sections and sentences; and

(e) Use lists and tables wherever possible.

If you feel that we have not met these requirements, please send us comments by one of the methods listed under the heading General Comments in the ADDRESSES section. To better help us revise the rule, your comments should be as specific as possible. For example, you should tell us the numbers of the sections or paragraphs that are unclearly written, which sections or sentences are too long, the sections where you feel lists or tables would be useful, etc.

Public Comments

We are seeking comments on whether the provisions in this proposed rule allow the affected public to effectively comply with CITES. Except for comments concerning the information collection aspects of this proposed rule, you may submit your comments and materials concerning this proposed rule by one of the methods listed under the heading General Comments in the ADDRESSES section. We will not accept comments sent by email or fax or to an address not listed under the heading General Comments in the ADDRESSES section. For information on submitting comments concerning the information collection aspects of this proposed rule, see the DATES, ADDRESSES, and Paperwork Reduction Act sections of this proposal.

We will post your entire comment—including your personal identifying information—on http://www.regulations.gov. If you provide personal identifying information in your written comments, you may request at the top of your document that we withhold this information from public review. However, we cannot guarantee that we will be able to do so.

Comments and materials we receive, as well as supporting documentation we used in preparing this proposed rule, will be available for public inspection on http://www.regulations.gov, or by appointment, between 8 a.m. and 4 p.m., Monday through Friday, except Federal holidays, at the U.S. Fish and Wildlife Service; Division of Management Authority; 4401 N. Fairfax Drive, Suite 212; Arlington, VA 22203; telephone, (703) 358-2093.

List of Subjects

50 CFR Part 13

Administrative practice and procedure, Exports, Fish, Imports, Plants, Reporting and recordkeeping requirements, Transportation, Wildlife.

50 CFR Part 17

Endangered and threatened species, Exports, Imports, Reporting and recordkeeping requirements, Transportation.

50 CFR Part 23

Animals, Endangered and threatened species, Exports, Fish, Foreign trade, Forest and forest products, Imports, Incorporation by reference, Marine mammals, Plants, Reporting and recordkeeping requirements, Transportation, Treaties, Wildlife.

Proposed Regulation Promulgation

For the reasons given in the preamble, we propose to amend title 50, chapter I, subchapter B of the CFR as follows:

PART 13—[AMENDED]

1. The authority citation for part 13 continues to read as follows:

Authority: 16 U.S.C. 668a, 704, 712, 742j-l, 1374(g), 1382, 1538(d), 1539, 1540(f), 3374, 4901-4916; 18 U.S.C. 42; 19 U.S.C. 1202; 31 U.S.C. 9701.

§ 13.3 [Amended]

2. Section 13.3 is amended by removing the words ““Endangered Species Convention” (the Convention on International Trade in Endangered Species of Wild Fauna and Flora)” from the first sentence and adding in their place the words “ “Convention on International Trade in Endangered Species of Wild Fauna and Flora (CITES)”.”

3. Section 13.11 is amended by:

a. Adding the words “the Service's permits Web page at http://www.fws.gov/permits/; and the” immediately following the colon in the first sentence of subparagraph (b)(3);

b. Removing the words “Room 700” from the first sentence of subparagraph (b)(3) and adding in their place the words “Room 212”;

c. Adding the word “street” immediately before the word “address” in the last sentence of subparagraph (b)(3); and

d. Adding an entry to the table in subparagraph (d)(4) under the section titled “Endangered Species Act/CITES/Lacey Act” immediately following the entry for “CITES Registration of Commercial Breeding Operations for Appendix-I Wildlife” to read as set forth below.

§ 13.11 Application procedures.

* * * * *

(d) * * *

(4) * * *

Type of permit | CFR citation | Fee | Amendment fee
* * * * * * *
Endangered Species Act/CITES/Lacey Act
* * * * * * *
—Renewal of Registration of Commercial Breeding Operations for Appendix-I wildlife | 50 CFR Part 23 | 50 |
* * * * * * *

4. Section 13.12(b) is amended by:

a. Revising the introductory text to read as set forth below;

b. In the table, under the heading “Threatened wildlife and plant permits:” removing the entry for “American alligator—buyer or tanner”; and

c. In the table, removing the final entry, “Endangered Species Convention permits.”

§ 13.12 General information requirements on applications for permits.

* * * * *

(b) Additional information required on permit applications. As stated in paragraph (a)(3) of this section, certain additional information is required on all permit applications. For CITES permit applications, see part 23 of this subchapter. Additional information required on applications for other types of permits may be found by referring to the sections of this subchapter cited in the following table:

* * * * *

PART 17—[AMENDED]

5. The authority citation for part 17 continues to read as follows:

Authority: 16 U.S.C. 1361-1407; 16 U.S.C. 1531-1544; 16 U.S.C. 4201-4245; Pub. L. 99-625, 100 Stat. 3500; unless otherwise noted.

§ 17.9 [Amended]

6. Section 17.9(a)(2) is amended by:

a. Removing the words “Office of” and adding in their place the words “Division of”; and

b. Removing the words “Room 700” and adding in their place the words “Room 212”.

§ 17.11 [Amended]

7. In § 17.11(h), the List of Endangered and Threatened Wildlife, the entries for “Caiman, brown,” “Caiman, common,” and “Caiman, yacare” are amended by, in each entry, removing the number “17.42(g)” from the column titled “Special rules” and adding in its place the number “17.42(c)”.

§ 17.21 [Amended]

8. Section 17.21(g)(2) is amended by:

a. Removing the words “Office of” in the first sentence and adding in their place the words “Division of”; and

b. Adding the words “Room 212,” in the first sentence immediately following the words “Fairfax Drive,”.

9. Section 17.40 is amended by:

a. Revising subparagraph (b)(1)(i)(B) to read as set forth below;

b. Removing the words “Assistant Regional Director, Division of Law Enforcement, U.S. Fish and Wildlife Service” from subparagraphs (b)(1)(i)(C)(3), (b)(1)(i)(D), and (b)(1)(ii) and adding in their place the words “U.S. Fish and Wildlife Service law enforcement office”;

c. Removing subparagraph (e)(1)(iv);

d. Revising subparagraph (e)(3)(iii)(D) to read as set forth below;

e. Adding the words “(Panthera pardus)” immediately following the word “Leopard” in the heading of paragraph (f);

f. Revising the first sentence of subparagraph (h)(5) to read as set forth below;

g. Revising the heading of paragraph (m) to read as set forth below;

h. Removing the first sentence following the heading of paragraph (m);

i. Revising subparagraphs (m)(1)(ii)and (m)(1)(iii) to read as set forth below;

j. Revising subparagraph (m)(2) to read as set forth below;

k. Removing the words “an information notice” from the second sentence of subparagraph (m)(3) and adding in their place the words “a public bulletin”;

l. Removing subparagraphs (m)(3)(i) and (m)(3)(iv); and

m. Redesignating subparagraphs (m)(3)(ii) and (m)(3)(iii) as subparagraphs (m)(3)(i) and (m)(3)(ii).

§ 17.40 Special rules—mammals.

* * * * *

(b) * * *

(1) * * *

(i) * * *

(B) Grizzly bears may be taken in self-defense or in defense of others, but such taking shall be reported by the individual who has taken the bear or his designee within 5 days of occurrence to the Resident Agent in Charge, Office of Law Enforcement, U.S. Fish and Wildlife Service, 2900 4th Avenue North, Suite 301, Billings, MT 59101 (406-247-7355), if occurring in Montana or Wyoming, or the Special Agent in Charge, Office of Law Enforcement, U.S. Fish and Wildlife Service, P.O. Box 9, Sherwood, OR 97140 (503-521-5300), if occurring in Idaho or Washington, and to appropriate State and Tribal authorities. Grizzly bears taken in self-defense or in defense of others, including the parts of such bears, shall not be possessed, delivered, carried, transported, shipped, exported, received, or sold, except by Federal, State, or Tribal authorities.

* * * * *

(e) * * *

(3) * * *

(iii) * * *

(D) The trophy is legibly marked in accordance with part 23 of this subchapter.

* * * * *

(h) * * *

(5) Any take pursuant to paragraph (h)(4) of this section must be reported in writing to the U.S. Fish and Wildlife Service, Office of Law Enforcement, 4401 N. Fairfax Drive, LE-3000, Arlington, VA 22203, within 5 days. * * *

* * * * *

(m) Vicuña (Vicugna vicugna).

(1) * * *

(1) * * *

(ii) Import, export, and re-export. Except as provided in paragraph (m)(2) of this section, it is unlawful to import, export, or re-export, or present for export or re-export without valid permits as required under parts 17 and 23 of this subchapter, any vicuña or vicuña parts and products. For import of embryos, blood, other tissue samples, or live vicuña, permits required under § 17.32 and part 23 will be issued only for bona fide scientific research contributing to the conservation of the species in the wild.

(iii) Other activities. Except as provided in paragraph (m)(2) of this section, it is unlawful to sell or offer for sale, deliver, receive, carry, transport, or ship in interstate or foreign commerce and in the course of a commercial activity any vicuña or vicuña parts and products. * * * * *

(2) What activities involving vicuña are allowed by this rule? You may import, export, or re-export, or place in interstate or foreign commerce, raw wool sheared from live vicuñas, cloth made from such wool, or manufactured or handicraft products and articles made from or consisting of such wool or cloth without a threatened species permit issued according to § 17.32 only when the following provisions have been met:

(i) The specimens originated from a population listed in CITES Appendix II.

(ii) The provisions in parts 13, 14, and 23 of this subchapter are met, including the specific labeling provisions in part 23.

(iii) Personal and household effects. Under the provisions of this special rule, raw wool sheared from live vicuñas, cloth made from such wool, or manufactured or handicraft products and articles made from or consisting of such wool or cloth are not granted the personal or household effects exemption described in part 23 of this subchapter. In addition to the provisions of this paragraph (m)(2), such specimens may only be imported, exported, or re-exported when accompanied by a valid CITES document.

(iv) Labeling of wool sheared from live vicuñas. Any shipment of raw wool sheared from live vicuñas must be sealed with a tamper-proof seal and have the following:

(A) An identification tag with a code identifying the country of origin of the raw vicuña wool and the CITES export permit number; and

(B) The vicuña logotype as defined in 50 CFR part 23 and the words “VICUÑA—COUNTRY OF ORIGIN”, where country of origin is the name of the country from which the raw vicuña wool was first exported.

(v) At the time of import, the country of origin and each country of re-export involved in the trade of a particular shipment have not been identified by the CITES Conference of the Parties, the CITES Standing Committee, or in a Notification from the CITES Secretariat as a country from which Parties should not accept permits.

* * * * *

10. Section 17.44 is amended by:

a. Revising the heading of paragraph (y) to read as set forth below;

b. Removing the first sentence following the heading of paragraph (y);

c. Revising subparagraph (y)(3)(i)(A) to read as set forth below;

d. Revising subparagraph (y)(3)(ii) to read as set forth below;

e. Removing subparagraph (y)(4)(iii);

f. Redesignating subparagraphs (y)(4)(iv) through (y)(4)(vi) as (y)(4)(iii) through (y)(4)(v);

g. Revising newly redesignated subparagraph (y)(4)(iii) to read as set forth below;

h. Revising the fourth sentence after the heading of subparagraph (y)(5) to read as set forth below;

i. Removing the words “an information bulletin” from the first sentence after the heading of subparagraph (y)(6) and adding in their place the words “a public bulletin”; and

j. Removing the words “Room 700” in the NOTE to paragraph (y)(6) and adding in their place the words “Room 212”.

§ 17.44 Special rules—fishes.

* * * * *

(y) Beluga sturgeon (Huso huso). * * *

(3) * * *

(i) * * *

(A) Beluga sturgeon caviar, including beluga sturgeon caviar in interstate commerce in the United States, must be labeled in accordance with the CITES labeling requirements in 50 CFR part 23.

* * * * *

(ii) Personal and household effects. You may import, export, or re-export, or conduct interstate or foreign commerce in beluga sturgeon specimens that qualify as personal or household effects under 50 CFR part 23 without a threatened species permit otherwise required under § 17.32. Trade suspensions or trade restrictions administratively imposed by the Service under paragraphs (y)(6) or (y)(7) of this section may also apply to personal and household effects of beluga sturgeon caviar.

* * * * *

(4) * * *

(iii) CITES compliance. Trade in beluga sturgeon specimens must comply with CITES requirements in 50 CFR part 23. Except as provided in paragraph (y)(3)(ii) of this section, all shipments of beluga sturgeon specimens, including those exempted from threatened species permits under this special rule, must be accompanied by valid CITES documents upon import, export, or re-export. Beluga sturgeon caviar, including beluga sturgeon caviar in interstate commerce in the United States, must be labeled in accordance with the CITES labeling requirements in 50 CFR part 23.

(5) * * * Facilities outside the littoral states wishing to obtain such exemptions must submit a written request to the Division of Management Authority, U.S. Fish and Wildlife Service, 4401 N. Fairfax Drive, Room 212, Arlington, VA 22203, and provide information that shows at a minimum, all of the following: * * *

* * * * *

11. Section 17.62 is amended by:

a. Revising subparagraph (a)(4); and

b. Revising the third sentence of subparagraph (c)(3), and adding a sentence to the end of that paragraph, to read as set forth below.

§ 17.62 Permits for scientific purposes or for the enhancement of propagation or survival.

* * * * *

(a) * * *

(4) When the activity applied for involves a species also regulated by the Convention on International Trade in Endangered Species of Wild Fauna and Flora, additional requirements in part 23 of this subchapter must be met.

* * * * *

(c) * * *

(3) * * * If the specimens are of taxa also regulated by the Convention on International Trade in Endangered Species of Wild Fauna and Flora, specific information must be entered on the Customs declaration label affixed to the outside of each shipping container or package. See part 23 of this subchapter for requirements for trade in CITES specimens between registered scientific institutions.

* * * * *

12. Section 17.72 is amended by:

a. Revising paragraph (a)(4); and

b. Revising the third sentence of paragraph (c)(3), and adding a sentence to the end of that paragraph, to read as set forth below.

§ 17.72 Permits—general.

* * * * *

(a) * * *

(4) When the activity applied for involves a species also regulated by the Convention on International Trade in Endangered Species of Wild Fauna and Flora, additional requirements in part 23 of this subchapter must be met.

* * * * *

(c) * * *

(3) * * * If the specimens are of taxa also regulated by the Convention on International Trade in Endangered Species of Wild Fauna and Flora, specific information must be entered on the Customs declaration label affixed to the outside of each shipping container or package. See part 23 of this subchapter for requirements for trade in CITES specimens between registered scientific institutions.

* * * * *

PART 23—[AMENDED]

13. The authority citation for part 23 continues to read as follows:

Authority: Convention on International Trade in Endangered Species of Wild Fauna and Flora (March 3, 1973), 27 U.S.T. 1087; and Endangered Species Act of 1973, as amended, 16 U.S.C. 1531 et seq.

14. Section 23.2 is amended by:

a. Revising the text in the left-hand column of paragraph (b) to read as set forth below;

b. Redesignating paragraph (d) as paragraph (e); and

c. Adding a new paragraph (d) to read as set forth below.

§ 23.2 How do I decide if these regulations apply to my shipment or me?

* * * * *

Question on proposed activity | Answer and action
* * * * * * *
(b) Is the wildlife or plant specimen exempted from CITES requirements (see § 23.92 (b))? | * * * * * * *
* * * * * * *
(d) Is the specimen that you possess or want to enter into intrastate or interstate commerce subject to restrictions on its use after import? | (1) YES. The regulations in this part apply. See § 23.55.
| (2) NO. Continue to paragraph (e) of this section.
* * * * * * *

15. Section 23.5 is amended by:

a. Revising the definition of Bred for noncommercial purposes by removing the words “, and is conducted between facilities that are involved in a cooperative conservation program” from the end of the sentence;

b. Removing the entry for Cooperative conservation program;

c. Revising the definitions of Coral (dead), Coral fragments, Coral (live), and Coral sand to read as set forth below;

d. Revising the first sentence, and adding a sentence to the end, of the definition of Coral rock to read as set forth below;

e. Adding, in alphabetical order, a definition of Coral (stony) to read as set forth below;

f. Revising the definition of Cultivar to read as set forth below;

g. Revising the definition of Introduction from the sea to read as set forth below; and

h. Adding, in alphabetical order, a definition of Ranched wildlife to read as set forth below.

§ 23.5 How are the terms used in these regulations defined?

* * * * *

Coral (dead) means pieces of stony coral that contain no living coral tissue and in which the structure of the corallites (skeletons of the individual polyps) is still intact and the specimens are therefore identifiable to the level of species or genus. See also § 23.23(c)(13).

Coral fragments, including coral gravel and coral rubble, means loose pieces of broken finger-like stony coral between 2 and 30 mm measured in any direction that contain no living coral tissue and are not identifiable to the level of genus (see § 23.92 for exemptions).

Coral (live) means pieces of stony coral that are alive and are therefore identifiable to the level of species or genus. See also § 23.23(c)(13).

Coral rock means hard consolidated material greater than 30 mm measured in any direction that consists of pieces of stony coral that contain no living coral tissue and possibly also cemented sand, coralline algae, or other sedimentary rocks. * * * See also § 23.23(c)(13).

Coral sand means material that consists entirely or in part of finely crushed stony coral no larger than 2 mm measured in any direction that contains no living coral tissue and is not identifiable to the level of genus (see § 23.92 for exemptions).

Coral (stony) means any coral in the orders Helioporacea, Milleporina, Scleractinia, Stolonifera, and Stylasterina.

* * * * *

Cultivar means a horticulturally derived plant variety that: (a) Has been selected for a particular character or combination of characters; (b) is distinct, uniform, and stable in these characters; and (c) when propagated by appropriate means, retains these characters. The cultivar name and description must be formally published in order to be recognized under CITES.

* * * * *

Introduction from the sea means transportation into a country of specimens of any species that were taken in the marine environment not under the jurisdiction of any country, i.e., taken in those marine areas beyond the areas subject to the sovereignty or sovereign rights of a country consistent with international law, as reflected in the United Nations Convention on the Law of the Sea.

* * * * *

Ranched wildlife means specimens of animals reared in a controlled environment that were taken from the wild as eggs or juveniles where they would otherwise have had a very low probability of surviving to adulthood. See also § 23.34.

* * * * *

§ 23.7 [Amended]

16. Section 23.7 is amended by:

a. In paragraph (a) under the Office to contact table heading, removing the words “Room 700” and adding in their place the words “Room 212”; and

b. In paragraph (b) under the Office to contact table heading, removing the words “Room 750” and adding in their place the words “Room 110”.

§ 23.8 [Amended]

17. Section 23.8 is amended by removing the words “Numbers 1018-0093 and 1018-0137” from the end of the first sentence and adding in their place the words “Number 1018-0093”.

18. Section 23.13 is amended by:

a. Redesignating paragraph (d) as paragraph (f);

b. Adding a new paragraph (d) and a new paragraph (e) to read as set forth below; and

c. In the newly redesignated paragraph (f), removing the words “(a) through (c)” and adding in their place the words “(a) through (e)”.

§ 23.13 What is prohibited?

* * * * *

(d) Use any specimen of a species listed in Appendix I, II, or III of CITES for any purpose contrary to what is allowed under § 23.55.

(e) Violate any other provisions of this part.

* * * * *

19. Section 23.18 is amended by removing the decision tree and adding in its place the following decision tree.

§ 23.18 What CITES documents are required to export Appendix-I wildlife?

* * * * *

BILLING CODE 4310-55-P

20. Section 23.19 is amended by removing the decision tree and adding in its place the following decision tree.

§ 23.19 What CITES documents are required to export Appendix-I plants?

* * * * *

BILLING CODE 4310-55-C

21. Section 23.23 is amended by:

a. Removing the words “on a form printed” in the first sentence of paragraph (b) and adding in their place the word “issued”;

b. Adding a sentence to the end of subparagraph (c)(1) to read as set forth below;

c. Revising subparagraph (c)(7) to read as set forth below;

d. Removing the first sentence in the right-hand column of subparagraph (c)(12) and adding in its place two sentences to read as set forth below;

e. Removing the first sentence in the right-hand column of subparagraph (c)(13) and adding in its place three sentences to read as set forth below;

f. Redesignating subparagraphs (c)(13)(i)(B) through (c)(13)(i)(C) as (c)(13)(i)(C) through (c)(13)(i)(D);

g. Adding new subparagraph (c)(13)(i)(B) to read as set forth below;

h. Adding the words “or signature stamp” immediately following the words “original handwritten signature” in the first sentence of subparagraph (c)(16);

i. Adding a sentence immediately following the first sentence in the right-hand column of subparagraph (c)(18) to read as set forth below;

j. Revising the first sentence of subparagraph (c)(21) to read as set forth below;

k. Removing the word “calendar” from subparagraph (e)(5)(i);

l. Adding a new subparagraph (e)(10)(iv) to read as set forth below; and

m. Removing the words “include hybrids” from subparagraph (f)(2)(ii) and adding in their place the words “treat hybrids as Appendix-I specimens”.

§ 23.23 What information is required on U.S. and foreign CITES documents?

* * * * *

(c) * * *

Required information | Description
(1) * * * | * * * For products that contain or consist of more than one CITES species, the Appendix in which each species is listed must be indicated on the CITES document.
* * * * * * *
(7) Humane transport of live specimens | If the CITES document authorizes the export or re-export of live specimens, a statement that the document is valid only if the transport conditions comply with the International Air Transport Association Live Animals Regulations (for animals) or the International Air Transport Association Perishable Cargo Regulations (for plants). A shipment containing live animals must comply with the requirements of the Live Animals Regulations (LAR) 37th edition, October 1, 2010, by the International Air Transport Association (IATA), Reference Number: 9105-37, ISBN 978-92-9233-373-7. A shipment containing live plants must comply with the requirements for plants in IATA's Perishable Cargo Regulations (PCR) 10th edition, July 1, 2010, Reference Number: 9526-10, ISBN 978-92-9233-371-3. The incorporation by reference of these documents was approved by the Director of the Office of the Federal Register in accordance with 5 U.S.C. 552(a) and 1 CFR part 51. Copies of the LAR and PCR may be obtained from IATA, 800 Place Victoria, P.O. Box 113, Montreal, Quebec, Canada H4Z 1M1, by calling 1-800-716-6326, or ordering through the Internet at http://www.iata.org. Copies may be inspected at the U.S. Management Authority, Fish and Wildlife Service, 4401 N. Fairfax Dr., Room 212, Arlington, VA 22203 or at the National Archives and Records Administration (NARA). For information on the availability of this material at NARA, call 202-741-6030, or go to: http://www.archives.gov/federal_register/code_of_federal_regulations/ibr_locations.html.
* * * * * * *
(12) * * * | The quantity of specimens authorized in the shipment and, if appropriate, the unit of measurement using the metric system. For products that contain or consist of more than one CITES species, the quantity of each species must be indicated on the CITES document.
* * * * * * *
(13) * * * | The scientific name of the species, including the subspecies when needed to determine the level of protection of the specimen under CITES. For products that contain or consist of more than one CITES species, the scientific name of each species must be indicated on the CITES document. Scientific names must be in the standard nomenclature as it appears in the CITES Appendices or the references adopted by the CoP. * * *
| (i) * * *
| (B) If the species cannot be determined for worked specimens of black coral, specimens may be identified at the genus level. If the genus cannot be determined for worked specimens of black coral, the scientific name to be used is the order Antipatharia. Raw black coral and live black coral must be identified to the level of species.
* * * * * * *
(18) * * * | * * * For products that contain or consist of more than one CITES species, the source code of each species must be indicated on the CITES document. * * *
* * * * * * *
(21) * * * | Except as provided for replacement (§ 23.52(f)) or retrospective (§ 23.53(f)) CITES documents, the actual quantity of specimens exported or re-exported: * * *

* * * * *

(e) * * *

Type of document | Additional required information
* * * * * * *
(10) * * * | * * *
| (iv) For products that contain or consist of more than one CITES species, the information in (i)-(iii) for each species must be indicated on the CITES document.
* * * * * * *

§ 23.24 [Amended]

22. Section 23.24 is amended by:

a. Removing the words “which should be” in the first sentence of the introductory text and adding in their place the words “which may be”;

b. Adding the words “(see § 23.5)” immediately following the words “Captive-bred” in subparagraph (d)(2)(i);

c. Removing subparagraph (d)(2)(iii);

d. Removing the words “to be used” in paragraph (f) and adding in their place the words “may be used”; and

e. Removing the words “(wildlife that originated from a ranching operation).” in paragraph (g) and adding in their place the words “(see § 23.5).”

23. Section 23.26 is amended by:

a. Revising the sentence in the right-hand column of subparagraph (c)(8) to read as set forth below;

b. Redesignating subparagraphs (d)(4) through (d)(8) as (d)(5) through (d)(9);

c. Adding new subparagraph (d)(4) to read as set forth below;

d. Redesignating newly designated subparagraphs (d)(7) through (d)(9) as subparagraphs (d)(8) through (d)(10);

e. Adding new subparagraph (d)(7) to read as set forth below; and

f. Adding new subparagraph (d)(11) to read as set forth below.

§ 23.26 When is a U.S. or foreign CITES document valid?

* * * * *

(c) * * *

Key phrase | Conditions for an acceptable CITES document
* * * * * * *
(8) * * * | Live wildlife or plants were transported in compliance with the International Air Transport Association Live Animals Regulations (for animals) or the International Air Transport Association Perishable Cargo Regulations (for plants) (See § 23.23(c)(7).)
* * * * * * *

(d) * * *

(4) The CITES document includes a species for which the Secretariat has published an annotated quota.

* * * * *

(7) We know or have reasonable grounds to believe that an Appendix-I specimen was not bred at a facility registered with the CITES Secretariat and that the purpose of the import is commercial.

* * * * *

(11) The export permit or re-export certificate does not contain validation or certification by an inspecting official at the time of export of the actual quantity exported or re-exported.

24. Section 23.27 is amended by:

a. Adding two sentences to the end of paragraph (a) to read as set forth below; and

b. Adding the words “exporting or re-exporting” immediately following the words “Officials in each” in the first sentence of paragraph (c).

§ 23.27 What CITES documents do I present at the port?

(a) * * * Article VI, paragraph 6, of the Treaty requires that the Management Authority of the importing country cancel and retain the export permit or re-export certificate and any corresponding import permit presented. In the United States, for imports of CITES-listed plant specimens, CITES inspecting officials cancel and submit original CITES documents to the U.S. Management Authority.

* * * * *

25. Section 23.34 is amended by:

a. Removing the words “Exempt plant material” from the left-hand column of subparagraph (b)(3) and adding in their place the words “Grown from exempt plant material”;

b. Redesignating subparagraphs (b)(6) through (b)(8) as subparagraphs (b)(7) through (b)(9);

c. Adding a new subparagraph (b)(6) to read as set forth below; and

d. Revising the footnote at the end of subparagraph (b) to read as set forth below.

§ 23.34 What kinds of records may I use to show the origin of a specimen when I apply for a U.S. CITES document?

* * * * *

(b) * * *

Source of specimen | Types of records
* * * * * * *
(6) Ranched wildlife | (i) Records, such as permits, licenses, and tags, that demonstrate that the specimen was legally removed from the wild under relevant Federal, tribal, State, or local wildlife conservation laws or regulations:
| (A) If taken on private or tribal land, permission of the landowner if required under applicable law.
| (B) If taken in a national, State, or local park, refuge or other protected area, permission from the applicable agency, if required.
| (ii) Records that document the rearing of specimens at the facility:
| (A) Number of specimens (by sex and age- or size-class) at the facility.
| (B) How long the specimens were reared at the facility.
| (C) Signed and dated statement by the owner or manager of the facility that the specimens were reared at the facility in a controlled environment.
| (D) Marking system, if applicable.
| (E) Photographs or video of the facility.
* * * * * * *
¹ If the wildlife was born in captivity from an egg collected in the wild or from parents that mated or exchanged genetic material in the wild, see paragraphs (b)(6) and (b)(9). If the plant was propagated from a non-exempt propagule collected from a wild plant, see paragraph (b)(9).

* * * * *

26. Section 23.36 is amended by:

a. Adding, in alphabetical order, two entries to the left-hand column of the table in subparagraph (b)(1) and two corresponding entries to the right-hand column of the table, to read as set forth below;

b. In subparagraph (b)(1) of the table, removing the entry “Export of Skins/Products of Bobcat, Canada Lynx, River Otter, Brown Bear, Gray Wolf, and American Alligator Taken under an Approved State or Tribal Program” and adding in its place the entry “Export of Skins of Bobcat, Canada Lynx, River Otter, Brown Bear, Gray Wolf, and American Alligator Taken under an Approved State or Tribal Program”;

c. In subparagraph (b)(1) of the table, removing the entry “Trophies by Taxidermists” and adding in its place the entry “Trophies by Hunters or Taxidermists”; and

d. In the last entry of subparagraph (b)(1), adding the words “(Live Animals/Samples/Parts/Products)” immediately following the words “Wildlife, Removed from the Wild”.

§ 23.36 What are the requirements for an export permit?

* * * * *

(b) * * *

Type of application for an export permit | Form No.
(1) CITES:
* * * * * * *
Caviar/Live Eggs/Meat of Paddlefish or Sturgeon, From an Aquaculture Facility | 3-200-80
* * * * * * *
Master File for the Export of Live Animals Bred-in-Captivity | 3-200-85

* * * * *

§ 23.40 [Amended]

27. Section 23.40 is amended by:

a. Removing the words “include hybrids in the listing” from subparagraph (d)(2)(iii) and adding in their place the words “treat hybrids as Appendix-I specimens”;

b. Adding the words “or spore” in subparagraph (e)(1) immediately following the words “from a wild seed”;

c. Removing the words “include hybrids in the listing” from subparagraph (e)(2) and adding in their place the words “treat hybrids as Appendix-I specimens”; and

d. Adding the words “(See § 23.47.)” after the last sentence in subparagraph (e)(2).

§ 23.41 [Amended]

28. Section 23.41 is amended by adding the words “, 3-200-80, or 3-200-85” immediately following the words “Form 3-200-24” in paragraph (c).

§ 23.42 [Amended]

29. Section 23.42 is amended by removing the words “include hybrids” from paragraph (b) and adding in their place the words “treat hybrids as Appendix-I specimens”.

30. Section 23.43 is amended by revising subparagraph (f)(2) and adding a new subparagraph (f)(3) to read as set forth below.

§ 23.43 What are the requirements for a wildlife hybrid?

* * * * *

(f) * * *

(2) For import, export, or re-export of an exempt wildlife hybrid without CITES documents, you must provide information at the time of import or export to clearly demonstrate that your specimen has no purebred CITES specimens in the previous four generations of its ancestry. If you are unable to clearly demonstrate this, you must obtain CITES documents. The information you provide must clearly identify the specimen and demonstrate its recent lineage. Such information may include, but is not limited to, the following:

(i) Records that identify the name and address of the breeder and identify the specimen by birth or hatch date and by sex, band number, microchip number, or other mark.

(ii) Certified pedigree issued by an internationally recognized association that contains scientific names of the animals in the specimen's recent lineage and clearly illustrates its genetic history. If the pedigree contains codes, you must provide a key or guide that explains the meaning of the codes.

(3) Although a CITES document is not required for an exempt wildlife hybrid, you must follow the clearance requirements for wildlife in part 14 of this subchapter, including the prior notification requirements for live wildlife.

31. Section 23.44 is amended by revising the section heading and adding a new subparagraph (e)(7) to read as set forth below.

§ 23.44 What are the requirements for traveling internationally with my personally owned live wildlife?

* * * * *

(e) * * *

(7) You must return the wildlife to the United States before the certificate expires.

32. Section 23.46 is amended by:

a. Removing the words “facilitate a dialogue for resolution of the identified problems within 60 days.” from the end of the last sentence of subparagraph (b)(3) and adding in their place the words “allow a further 30 days for resolution of the identified problems.”;

b. Revising subparagraph (b)(4) to read as set forth below;

c. Removing subparagraphs (b)(5) and (b)(6);

d. Redesignating subparagraphs (b)(7) through (b)(12) as subparagraphs (b)(5) through (b)(10);

e. Revising the first sentence of newly redesignated subparagraph (b)(7), and adding a sentence following the first sentence of that subparagraph to read as set forth below;

f. Adding a sentence immediately following the first sentence of newly redesignated subparagraph (b)(8) to read as set forth below;

g. Revising the last sentence of newly redesignated subparagraph (b)(8) by removing the words “, and the Animals Committee will review the operation to determine whether it should remain registered”;

h. Revising newly redesignated subparagraph (b)(10) by removing the words “bred at a commercial breeding operation that is registered with the CITES Secretariat as provided in this section” and adding in their place the words “bred-in-captivity (see § 23.63)”;

i. Removing subparagraph (e)(3);

j. Redesignating subparagraph (e)(4) as subparagraph (e)(3);

k. Adding a new subparagraph (e)(4) to read as set forth below;

l. Redesignating paragraphs (f) through (h) as paragraphs (h) through (j);

m. Adding a new paragraph (f) to read as set forth below;

n. Adding a new paragraph (g) to read as set forth below; and

o. Removing the words “Form 3-200-24” from newly designated paragraph (i) and adding in their place the words “the appropriate form (see § 23.36)”.

§ 23.46 What are the requirements for registering a commercial breeding operation for Appendix-I wildlife and commercially exporting specimens?

* * * * *

(b) * * *

(4) If the objection is not withdrawn or the identified problems are not resolved within the 30-day period, the Secretariat will submit the application to the Standing Committee at its next regular meeting. The Standing Committee will determine whether the objection is justified and decide whether to accept the application.

* * * * *

(7) If a Party believes that a registered operation does not meet the bred-in-captivity requirements, it may, after consultation with the Secretariat and the Party concerned, propose to the Standing Committee that the operation be deleted from the register. At its following meeting, the Standing Committee will consider the concerns raised by the objecting Party, and any comments from the registering Party and the Secretariat, and determine whether the operation should be deleted from the register. * * *

(8) * * * In the United States, we will monitor registered operations, in part, by requiring each operation to apply for renewal and demonstrate that it continues to qualify for registration at least once every 5 years. (See paragraphs (e)(4) and (f) of this section.) * * *

* * * * *

(e) * * *

(4) Registrations will be valid for a period not to exceed 5 years. Registrants who wish to remain registered must request renewal before the end of the period of validity of the registration.

(f) U.S. application to renew a registration. Requests for renewal of a registration should be submitted at least 3 months before the registration expires. Complete Form 3-200-65 and submit it to the U.S. Management Authority.

(g) Criteria for renewal of U.S. registrations. To renew your registration, you must provide sufficient information for us to find that your proposed activity continues to meet all of the criteria in paragraph (d) of this section.

* * * * *

33. Section 23.47 is amended by adding a sentence to the end of paragraph (a) to read as set forth below.

§ 23.47 What are the requirements for export of an Appendix-I plant artificially propagated for commercial purposes?

(a) * * * This section does not apply to hybrids of one or more Appendix-I species or taxa that are not annotated to treat hybrids as Appendix-I specimens (see § 23.40).

* * * * *

34. Section 23.52 is amended by:

a. Removing the last sentence of paragraph (a) and adding in its place two new sentences to read as set forth below;

b. Adding a new subparagraph (b)(6) to read as set forth below;

c. Revising the introductory text of paragraph (d) to read as set forth below;

d. Redesignating subparagraphs (d)(1) and (d)(2) as (d)(1)(i) and (d)(1)(ii);

e. Adding a new paragraph (d)(1) to read as set forth below;

f. Adding a new subparagraph (d)(1)(iii) to read as set forth below; and

g. Adding a new paragraph (d)(2) to read as set forth below.

§ 23.52 What are the requirements for replacing a lost, damaged, stolen, or accidentally destroyed CITES document?

(a) * * * To renew a U.S. CITES document, see part 13 of this subchapter. To amend a U.S. CITES document, see part 13 of this subchapter if the activity has not yet occurred or, if the activity has already occurred, see § 23.53 of this part.

(b) * * *

(6) In the United States, you may not use an original single-use CITES document issued under a CITES master file or CITES annual program as a replacement document for a shipment that has already left the country.

* * * * *

(d) Criteria. The criteria in this paragraph (d) apply to the issuance and acceptance of U.S. and foreign documents.

(1) When applying for a U.S. replacement document, you must provide sufficient information for us to find that your proposed activity meets all of the following criteria:

(i) * * *

(ii) * * *

(iii) The specimens were presented to the appropriate official for inspection at the time of import and a request for a replacement CITES document was made at that time.

(2) For acceptance of foreign CITES replacement documents in the United States, you must provide sufficient information for us to find that your proposed activity meets all of the following criteria:

(i) The specimens were presented to the appropriate official for inspection at the time of import and a request for a replacement CITES document was made at that time.

(ii) The importer or the importer's agent submitted a signed, dated, and notarized statement at the time of import that describes the circumstances that resulted in the CITES document being lost, damaged, stolen, or accidentally destroyed.

(iii) The importer or the importer's agent provided a copy of the original lost, stolen, or accidentally destroyed document at the time of import showing that the document met the requirements in §§ 23.23, 23.24, and 23.25.

* * * * *

35. Section 23.53 is amended by:

a. Revising paragraph (a) to read as set forth below;

b. Adding a new subparagraph (b)(8) to read as set forth below;

c. Revising subparagraph (d)(6)(ii) to read as set forth below; and

d. Adding the words “as defined in § 23.5” to the end of the sentence in subparagraph (d)(7)(i).

§ 23.53 What are the requirements for obtaining a retrospective CITES document?

(a) Retrospective CITES documents may be issued and accepted in certain limited situations after an export or re-export has occurred, but before the shipment is cleared for import. When specific conditions are met, a retrospective CITES document may be issued to authorize trade that has taken place without a CITES document or to correct certain technical errors in a CITES document after the authorized activity has occurred.

(b) * * *

(8) In the United States, you may not use a U.S. CITES document issued under a CITES master file or CITES annual program as a retrospective CITES document.

* * * * *

(d) * * *

(6) * * *

(ii) The Management Authority unintentionally made a technical error when issuing the CITES document that was not prompted by information provided by the applicant.

* * * * *

36. Section 23.55 is amended by:

a. Revising the introductory text to read as set forth below;

b. Revising the table's headings to read as set forth below;

c. Revising the text in the first block of the right-hand column of the table, which corresponds to paragraphs (a), (b), and (c) in the left-hand column of the table, to read as set forth below;

d. Adding the words “or Appendix III” immediately following the words “Appendix II” in paragraph (c);

e. Adding the word “lawful” immediately before the word “purpose” in the first phrase in the second block of the right-hand column of the table, which corresponds to paragraphs (d), (e), and (f) in the left-hand column of the table;

f. Redesignating subparagraph (d)(5) as (d)(6);

g. Adding a new subparagraph (d)(5) to read as set forth below; and

h. Revising paragraph (f) to read as set forth below.

§ 23.55 How may I use a CITES specimen after import into the United States?

In addition to the provisions in § 23.3, you may only use CITES specimens after import into the United States for the following purposes:

If the species is listed in | Allowed use within the United States
(a) * * * (b) * * * (c) * * * | The specimen may be used, including a transfer, donation, or exchange, only for noncommercial purposes. In cases where the species was listed in CITES Appendix I or in Appendix II with an annotation for noncommercial purposes subsequent to the import of your specimen, if you are able to demonstrate (using records or other evidence) that your specimen was imported prior to the Appendix-I or annotated Appendix-II listing, with no restrictions on its use after import, you may continue to use the specimen as indicated in paragraphs (d), (e) and (f) of this section.
* * * * * * *
(d) * * *
(5) Certificate for artificially propagated plants with a source code of “A” for artificially propagated hybrid specimens derived from one or more unannotated Appendix-I species or other taxa. * * * |
* * * * * * *
(f) Appendix III, other than those in paragraph (c) of this section |

37. Section 23.56 is amended by revising subparagraph (a)(2) to read as set forth below.

§ 23.56 What U.S. CITES document conditions do I need to follow?

(a) * * *

(2) For export and re-export of live wildlife and plants, transport conditions must comply with the International Air Transport Association Live Animals Regulations (for animals) or the International Air Transport Association Perishable Cargo Regulations (for plants) (See § 23.23(c)(7).)

* * * * *

§ 23.64 [Amended]

38. In § 23.64, subparagraph (g)(4)(ii) is amended by adding the words “or spores” immediately following the words “to collect seeds”.

39. Section 23.69 is amended by:

a. Revising the title of the section and the first sentence of paragraph (a) to read as set forth below;

b. Revising the first two sentences of paragraph (c)(3) to read as set forth below;

c. Removing the words “broken, cut, or missing” from the first sentence of subparagraph (c)(3)(i) and adding in their place the words “inadvertently removed, damaged, or lost”;

d. Removing the words “is broken or cut” from the third sentence of subparagraph (c)(3)(i) and adding in their place the words “has been inadvertently removed or damaged”;

e. Removing the word “missing” in the fourth sentence of subparagraph (c)(3)(i) and adding in its place the word “lost”;

f. Adding the words “or to export products made from fur skins” immediately following the words “approved program” in subparagraph (e)(2); and

g. Adding the words “or products made from fur skins” immediately following the words “To re-export fur skins” in subparagraph (e)(3).

§ 23.69 How can I trade internationally in fur skins and fur skin products of bobcat, river otter, Canada lynx, gray wolf, and brown bear harvested in the United States?

(a) * * * For purposes of this section, CITES furbearers means bobcat (Lynx rufus), river otter (Lontra canadensis), Canada lynx (Lynx canadensis), gray wolf (Canis lupus), and brown bear (Ursus arctos) harvested in the United States. * * *

* * * * *

(c) Fur skins without a CITES tag permanently attached may not be exported or re-exported. If the CITES tag has been inadvertently removed, damaged, or lost you may obtain a replacement tag. * * *

* * * * *

40. Section 23.70 is amended by:

a. Adding the word “tamper-resistant,” immediately following the word “Be” in subparagraph (d)(1)(i);

b. Revising subparagraph (d)(1)(ii) to read as set forth below;

c. Adding the word “skin” immediately before the words “production or harvest” in subparagraph (d)(1)(iii);

d. Revising paragraph (d)(2) to read as set forth below;

e. Revising the first two sentences of paragraph (d)(3) to read as set forth below;

f. Removing the words “broken, cut, or missing” from the first sentence of subparagraph (d)(3)(i) and adding in their place the words “inadvertently removed, damaged, or lost”;

g. Removing the words “is broken or cut” from the fourth sentence of subparagraph (d)(3)(i) and adding in their place the words “has been inadvertently removed or damaged”;

h. Removing the word “missing” in the fifth sentence of subparagraph (d)(3)(i) and adding in its place the word “lost”;

i. Adding the word “skin” immediately before the words “production or harvest” in the first sentence of subparagraph (d)(3)(ii);

j. Adding the words “except for products made from American alligators,” immediately following the words “State or tribal program,” in subparagraph (h)(1);

k. Adding the words “or to export products made from American alligators,” immediately following the words “approved program,” in subparagraph (h)(2);

l. Redesignating subparagraph (h)(3) as subparagraph (h)(4); and

m. Adding a new subparagraph (h)(3) to read as set forth below.

§ 23.70 How can I trade internationally in American alligator and other crocodilian skins, parts, and products?

* * * * *

(d) * * *

(1) * * *

(ii) Be permanently stamped with the two-letter ISO code for the country of origin, a unique serial number, a standardized species code (available on our Web site; see § 23.7), and for specimens of species from populations that have been transferred from Appendix I to Appendix II for ranching, the year of skin production or harvest. For American alligator, the export tags include the US-CITES logo, an abbreviation for the State or Tribe of harvest, a standard species code (MIS = Alligator mississippiensis), the year of skin production or harvest, and a unique serial number.

* * * * *

(2) Skins, flanks, and chalecos must be individually tagged.

* * * * *

(3) Skins without a non-reusable tag permanently attached may not be exported or re-exported. If the tag has been inadvertently removed, damaged, or lost you may obtain a replacement tag. * * *

* * * * *

(h) * * *

(3) To re-export crocodilian specimens, complete Form 3-200-73 and submit it to either FWS Law Enforcement or the U.S. Management Authority.

* * * * *

41. Section 23.71 is amended by:

a. Revising paragraph (a) to read as set forth below;

b. Adding a sentence to the end of subparagraphs (b)(1)(i), (b)(1)(iv), and (b)(1)(v) to read as set forth below;

c. Revising subparagraph (b)(1)(ii) to read as set forth below;

d. Adding a sentence to the end of (b)(2)(iv) to read as set forth below;

e. Revising (b)(3)(iii) to read as set forth below;

f. Removing the words “and caviar products that consist” from paragraph (g) and adding in their place the words “that consists”;

g. Adding the words “or Form 3-200-80” immediately following the words “Form 3-200-76” in the third sentence of paragraph (h);

h. Removing the words “to FWS Law Enforcement” from the end of the last sentence in paragraph (h) and adding in their place the words “either to FWS Law Enforcement or the U.S. Management Authority”; and

i. Adding new paragraph (i) to read as set forth below.

§ 23.71 How can I trade internationally in sturgeon caviar?

(a) U.S. and foreign provisions. For the purposes of this section, sturgeon caviar or caviar means the processed roe of any species of sturgeon or paddlefish (order Acipenseriformes). It does not include sturgeon or paddlefish eggs contained in shampoos, cosmetics, lotions, or other products for topical application. The import, export, or re-export of sturgeon caviar must meet the requirements of this section and the other requirements of this part. The import, export, or re-export of Acipenseriformes specimens other than caviar must meet the other requirements of this part. See subparts B and C for prohibitions and application procedures.

(b) * * *

(1) * * *

(i) * * * In the United States, the design of the label will be determined by the labeler in accordance with the requirements of this section.

(ii) Primary container means any container (tin, jar, pail or other receptacle) in direct contact with the caviar.

* * * * *

(iv) * * * In the United States, this may be done by the person who harvested the roe.

(v) * * * This includes any facility where caviar is removed from the container in which it was received and placed in a different container.

* * * * *

(2) * * *

(iv) * * * This is either the calendar year in which caviar was harvested or, for caviar imported from shared stocks subject to quotas, the quota year in which it was harvested.

* * * * *

(3) * * *

(iii) Lot identification number or, for caviar that is being re-exported, the CITES document number under which it was imported may be used in place of the lot identification number.

* * * * *

(i) CITES register of exporters and of processing and repackaging plants. The CITES Secretariat maintains a “Register of licensed exporters and of processing and repackaging plants for specimens of sturgeon and paddlefish species” on its Web site. If you hold a current import/export license issued by FWS Law Enforcement and wish to be added to the CITES register, you may submit your contact information and processing or repackaging plant codes to the U.S. Management Authority for submission to the CITES Secretariat.

42. Section 23.74 is amended by:

a. Revising paragraph (b) to read as set forth below;

b. Revising paragraph (d) to read as set forth below; and

c. Adding a new paragraph (e) to read as set forth below.

§ 23.74 How can I trade internationally in personal sport-hunted trophies?

* * * * *

(b) Sport-hunted trophy means a whole dead animal or a readily recognizable part or derivative of an animal specifically identified on accompanying CITES documents that meets the following criteria:

(1) Is raw, processed, or manufactured;

(2) Was legally obtained by the hunter through hunting for his or her personal use;

(3) Is being imported, exported, or re-exported by or on behalf of the hunter as part of the transfer from its country of origin ultimately to the hunter's country of usual residence; and

(4) Includes worked, manufactured, or handicraft items made from the sport-hunted animal only when:

(i) Such items are contained in the same shipment as raw or tanned parts of the sport-hunted animal and are for the personal use of the hunter;

(ii) The quantity of such items is no more than could reasonably be expected given the number of animals taken by the hunter as shown on the license or other documentation of the authorized hunt accompanying the shipment; and

(iii) The accompanying CITES documents (export document and, if appropriate, import permit) contain a complete itemization and description of all items included in the shipment.

* * * * *

(d) Quantity. The following provisions apply to the issuance and acceptance of U.S. and foreign documents for sport-hunted trophies originating from a population for which the Conference of the Parties has established an export quota. The number of trophies that one hunter may import in any calendar year for the following species is:

(1) No more than two leopard (Panthera pardus) trophies.

(2) No more than one markhor (Capra falconeri) trophy.

(3) No more than one black rhinoceros (Diceros bicornis) trophy.

(e) Marking or tagging.

(1) The following provisions apply to the issuance and acceptance of U.S. and foreign documents for sport-hunted trophies originating from a population for which the Conference of the Parties has established an export quota. Each trophy imported, exported, or re-exported must be marked or tagged in the following manner:

(i) Leopard and markhor: Each raw or tanned skin must have a self-locking tag inserted through the skin and permanently locked in place using the locking mechanism of the tag. The tag must indicate the country of origin, the number of the specimen in relation to the annual quota, and the calendar year in which the specimen was taken in the wild. A mounted sport-hunted trophy must be accompanied by the tag from the skin used to make the mount.

(ii) Black rhinoceros: Parts of the trophy, including, but not limited to, skin, skull, or horns, whether mounted or loose, should be individually marked with reference to the country of origin, species, the number of the specimen in relation to the annual quota, and the year of export.

(iii) Crocodilians: See marking requirements in § 23.70.

(iv) The export permit or re-export certificate or an annex attached to the permit or certificate must contain all the information that is given on the tag.

(2) African elephant (Loxodonta africana). The following provisions apply to the issuance and acceptance of U.S. and foreign documents for sport-hunted trophies of African elephant. The trophy ivory must be legibly marked by means of punch-dies, indelible ink, or other form of permanent marking, under a marking and registration system established by the country of origin, with the following formula: The country of origin represented by the corresponding two-letter ISO country code; the last two digits of the year; the serial number for the year in question; and the weight of the ivory in kilograms. The mark must be highlighted with a flash of color and placed on the lip mark area. The lip mark area is the area of a whole African elephant tusk where the tusk emerges from the skull and which is usually denoted by a prominent ring of staining on the tusk in its natural state.

* * * * *

43. Section 23.75 is added to read as set forth below:

§ 23.75 How can I trade internationally in vicuña (Vicugna vicugna)?

(a) U.S. and foreign general provisions. The import, export, or re-export of specimens of vicuña must meet the requirements of this section and the other requirements of this part (see subparts B and C for prohibitions and application procedures). Certain populations of vicuña are listed in Appendix II for the exclusive purpose of allowing international trade in wool sheared from live vicuñas, cloth made from such wool, and products manufactured from such wool or cloth. All other specimens of vicuña are deemed to be specimens of species included in Appendix I.

(b) Vicuña Convention means the Convenio para la Conservación y Manejo de la Vicuña of which vicuña range countries are signatories.

(c) Vicuña logotype means the logotype adopted by the vicuña range countries under the Vicuña Convention.

(d) Country of origin for the purposes of the vicuña label means the name of the country where the vicuña wool in the cloth or product originated.

(e) Wool sheared from live vicuña, cloth from such wool, and products manufactured from such wool or cloth may be imported from Appendix-II populations only when they meet the labeling requirements in paragraph (f) of this section.

(f) Labeling requirements. Except for cloth containing CITES pre-Convention wool of vicuña, you may import, export, or re-export vicuña cloth only when the reverse side of the cloth bears the vicuña logotype and the selvages bear the words “VICUÑA—COUNTRY OF ORIGIN”. Specimens of other products manufactured from vicuña wool or cloth must bear a label that has the vicuña logotype and the designation “VICUÑA—COUNTRY OF ORIGIN—ARTESANIA”. Each specimen must bear such a label. For import into the United States of raw wool sheared from live vicuña, see the labeling requirements in 50 CFR 17.40(m).

44. Section 23.84 is amended by:

a. Removing the word “four” and adding in its place the word “three” in the first sentence of paragraph (b);

b. Removing the words “assist the Nomenclature Committee in the development and maintenance of” in subparagraph (b)(2)(i) and adding in their place the words “develop and maintain”;

c. Adding subparagraph (b)(2)(iii) to read as set forth below; and

d. Removing subparagraph (b)(3).

§ 23.84 What are the roles of the Secretariat and the committees?

* * * * *

(b) * * *

(2) * * *

(iii) The CoP appoints a specialist on zoological nomenclature to the Animals Committee and a specialist on botanical nomenclature to the Plants Committee. These specialists are ex officio and non-voting, and are responsible for developing or identifying standard nomenclature references for wildlife and plant taxa and making recommendations on nomenclature to Parties, the CoP, other committees, working groups, and the Secretariat.

45. Section 23.92 is amended by:

a. Removing the words “paragraph (b)” and adding in their place the words “paragraphs (b) and (c)” in paragraph (a);

b. Removing the words “and do not need CITES documents” from the first sentence of paragraph (b);

c. Revising subparagraph (b)(2) to read as set forth below;

d. Adding the introductory text of a new paragraph (c) and a subparagraph (c)(1) to read as set forth below; and

e. Redesignating subparagraphs (b)(3) through (b)(8) as subparagraphs (c)(2) through (c)(7).

§ 23.92 Are any wildlife or plants, and their parts, products, or derivatives, exempt?

* * * * *

(b) * * *

(2) Plant hybrids. Specimens of an Appendix-II or -III plant taxon with an annotation that specifically excludes hybrids.

(c) The following are exempt from CITES document requirements when certain criteria are met.

(1) Plant hybrids. Seeds and pollen (including pollinia), cut flowers, and flasked seedlings or tissue cultures of hybrids that qualify as artificially propagated (see § 23.64) and that were produced from one or more Appendix-I species or taxa that are not annotated to treat hybrids as Appendix-I specimens.

* * * * *

Appendix A to 50 CFR Chapter I—[Amended]

46. Remove Appendix A to Chapter I.

Dated: February 1, 2012.
Eileen Sobeck,
Acting Assistant Secretary for Fish and Wildlife and Parks.

[FR Doc. 2012-4986 Filed 3-7-12; 8:45 am]

BILLING CODE 4310-55-P